DEPARTMENT OF AGRICULTURE

Agricultural Marketing Service

7 CFR Part 1205

[Doc. #AMS-CN-13-0100]

Cotton Board Rules and Regulations: Adjusting Supplemental Assessment on Imports (2014 Amendment)

AGENCY: Agricultural Marketing Service, USDA.

ACTION: Direct Final Rule.

SUMMARY: The Agricultural Marketing Service (AMS) is amending the Cotton Board Rules and Regulations, decreasing the value assigned to imported cotton for the purposes of calculating supplemental assessments collected for use by the Cotton Research and Promotion Program. This amendment is required each year to assure that assessments collected on imported cotton and the cotton content of imported products will be the same as those paid on domestically produced cotton.

DATES: This direct rule is effective August 25, 2014, without further action or notice, unless significant adverse comment is received by July 28, 2014. If significant adverse comment is received, AMS will publish a timely withdrawal of the amendment in the Federal Register.

ADDRESSES: Written comments may be submitted to the addresses specified below. All comments will be made available to the public. Please do not include personally identifiable information (such as name, address, or other contact information) or confidential business information that you do not want publically disclosed. All comments may be posted on the Internet and can be retrieved by most Internet search engines. Comments may be submitted anonymously.

Comments, identified by AMS-CN-13-0100, may be submitted electronically through the Federal eRulemaking Portal at http://www.regulations.gov. Please follow the instructions for submitting comments. In addition, comments may be submitted by mail or hand delivery to Cotton Research and Promotion Staff, Cotton and Tobacco Program, AMS, USDA, 100 Riverside Parkway, Suite 101, Fredericksburg, Virginia 22406. Comments should be submitted in triplicate. All comments received will be made available for public inspection at Cotton and Tobacco Program, AMS, USDA, 100 Riverside Parkway, Suite 101, Fredericksburg, Virginia 22406. A copy of this notice may be found at: www.regulations.gov.

FOR FURTHER INFORMATION CONTACT: Shethir M. Riva, Chief, Research and Promotion Staff, Cotton and Tobacco Program, AMS, USDA, 100 Riverside Parkway, Suite 101, Fredericksburg, Virginia 22406, telephone (540) 361-2726, facsimile (540) 361-1199, or email at Shethir.Riva@ams.usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 stat. 3909, November 28, 1990). These amendments contained two provisions that authorize changes in the funding procedures for the Cotton Research and Promotion Program. These provisions provide for: (1) The assessment of imported cotton and cotton products; and (2) termination of refunds to cotton producers. (Prior the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR § 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2013 in the Federal Register (78 FR 39551) for the purpose of calculating assessments on imported cotton is $0.012876 per kilogram. Using the Average Weighted Priced received by U.S. farmers for Upland cotton for the calendar year 2013, this direct final rule would amend the new value of imported cotton to $0.012728 per kilogram to reflect the price paid by U.S. farmers for Upland cotton during 2013.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or $0.2000 cents per pound (1/500) or $0.004409 per kg or $0.4409 cents per kg. (1/226.8).

Supplemental Assessment of 5/10 of One Percent of the Value of the Cotton Converted to Kilograms

The 2013 calendar year weighted average price received by producers for Upland cotton is $0.755 per pound or $1.664 per kg. (0.755 × 2.2046).

Five tenths of one percent of the average price equals $0.008319 per kg. (1.664 × 0.005).

Total Assessment

The total assessment per kilogram of raw cotton is obtained by adding the $1 per bale equivalent assessment of $0.004409 per kg. and the supplemental assessment $0.008319 per kg., which equals $0.012728 per kg.

The current assessment on imported cotton is $0.012876 per kilogram of imported cotton. The revised assessment in this direct final rule is $0.012728, a decrease of $0.000148 per kilogram. This decrease reflects the decrease in the average weighted price of Upland cotton received by U.S. farmers during the period January through December 2013.

Import Assessment Table in section 1205.510(b)(3) indicates the total assessment rate ($ per kilogram) due for each Harmonized Tariff Schedule (HTS) number that is subject to assessment. This table must be revised each year to reflect changes in supplemental assessment rates. In this direct final rule, AMS is amending the Import Assessment Table.

AMS believes that these amendments are necessary to assure that assessments collected on imported cotton and the cotton content of imported products are the same as those paid on domestically produced cotton. Accordingly, changes reflected in this rule should be adopted and implemented as soon as possible since it is required by regulation.

B. Good Cause Finding That Proposed Rulemaking Is Unnecessary

Rulemaking under section 553 of the Administrative Procedure Act (5 U.S.C. 551 et seq.) ordinarily involves publication of a notice of proposed rulemaking in the Federal Register and the public is given an opportunity to comment on the proposed rule; however, an agency may issue a rule without prior notice and comment procedures if it determines for good cause that public notice and comment procedures are impracticable, unnecessary, or contrary to the public interest for such rule, and incorporates a statement of the finding with the underlying reasons in the final rule issued.

As described this Federal Register notice, the amendment to the value used to determine the Cotton Research and Promotion Program importer assessment will be updated to reflect the assessment already paid by U.S. farmers. For the reasons mentioned in section A of this preamble, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

Notwithstanding the foregoing, in the “Proposed Rules” section of today's Federal Register, AMS is publishing a separate document that will serve as a notice of proposal to amend part 7 CFR part 1205 as described in this direct final rule. If AMS receives significant adverse comment during the comment period, it will publish, in a timely manner, a document in the Federal Register withdrawing this direct final rule. AMS will then address public comments in a subsequent final rule based on the proposed rule. AMS will not institute a second comment period on this rule. Any parties interested in commenting must do so during this comment period.

C. Regulatory Impact Analysis

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to access all costs and benefits of available regulatory alternatives and, if regulation is necessary, to select regulatory approaches that maximize net benefits (including potential economic, environmental, public health, and safety effects, distributive impacts and equity). Executive Order 13563 emphasizes the importance of quantifying both costs and benefits, reducing costs, harmonizing rules, and promoting flexibility. This action has been designated as a “non-significant regulatory action” under § 3(f) of Executive Order 12866, and therefore, review has been waived, and this action has not been reviewed by the Office of Management and Budget.

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,000,000. In 2013, an estimated 17,000 importers are subject to the rules and regulations issued pursuant to the Cotton Research and Promotion Order. Most are considered small entities as defined by the Small Business Administration.

This rule would only affect importers of cotton and cotton-containing products and would lower the assessments paid by the importers under the Cotton Research and Promotion Order. The current assessment on imported cotton is $0.012876 per kilogram of imported cotton. The proposed assessment is $0.012728, which was calculated based on the 12-month weighted average of price received by U.S. cotton farmers. Section 1205.510, “Levy of assessments”, provides “the rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2012 (the last audited year), producer assessments totaled $45.8 million and importer assessments totaled $39.3 million. According to the Cotton Board, should the volume of cotton products imported into the U.S. remain at the same level in 2014, one could expect a decrease of assessments by approximately $455,000.

Importers with line-items appearing on U.S. Customs and Border Protection documentation with value of the cotton contained therein which results in an assessment of two dollars ($2.00) or less will not be subject to assessments. In addition, imported organic cotton and products may be exempt from assessment if eligible under section 1205.519 of the Order.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because this rule would decrease the assessments paid by importers under the Cotton Research and Promotion Order. An amendment is required to adjust the assessments collected on imported cotton and the cotton content of imported products to be the same as those paid on domestically produced cotton. Accordingly, the change in this rule, if adopted, should be implemented as soon as possible.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.2728 cents per kilogram.

(3) * * *

(ii) * * *

Import Assessment Table
[Raw cotton fiber]
HTS No. | Conv. factor. | Cents/kg.
5007106010 | 0.2713 | 0.3453
5007106020 | 0.2713 | 0.3453
5007906010 | 0.2713 | 0.3453
5007906020 | 0.2713 | 0.3453
5112904000 | 0.1085 | 0.1381
5112905000 | 0.1085 | 0.1381
5112909010 | 0.1085 | 0.1381
5112909090 | 0.1085 | 0.1381
5201000500 | 0 | 1.2728
5201001200 | 0 | 1.2728
5201001400 | 0 | 1.2728
5201001800 | 0 | 1.2728
5201002200 | 0 | 1.2728
5201002400 | 0 | 1.2728
5201002800 | 0 | 1.2728
5201003400 | 0 | 1.2728
5201003800 | 0 | 1.2728
5204110000 | 1.0526 | 1.3397
5204190000 | 0.6316 | 0.8039
5204200000 | 1.0526 | 1.3397
5205111000 | 1 | 1.2728
5205112000 | 1 | 1.2728
5205121000 | 1 | 1.2728
5205122000 | 1 | 1.2728
5205131000 | 1 | 1.2728
5205132000 | 1 | 1.2728
5205141000 | 1 | 1.2728
5205142000 | 1 | 1.2728
5205151000 | 1 | 1.2728
5205152000 | 1 | 1.2728
5205210020 | 1.044 | 1.3288
5205210090 | 1.044 | 1.3288
5205220020 | 1.044 | 1.3288
5205220090 | 1.044 | 1.3288
5205230020 | 1.044 | 1.3288
5205230090 | 1.044 | 1.3288
5205240020 | 1.044 | 1.3288
5205240090 | 1.044 | 1.3288
5205260020 | 1.044 | 1.3288
5205260090 | 1.044 | 1.3288
5205270020 | 1.044 | 1.3288
5205270090 | 1.044 | 1.3288
5205280020 | 1.044 | 1.3288
5205280090 | 1.044 | 1.3288
5205310000 | 1 | 1.2728
5205320000 | 1 | 1.2728
5205330000 | 1 | 1.2728
5205340000 | 1 | 1.2728
5205350000 | 1 | 1.2728
5205410020 | 1.044 | 1.3288
5205410090 | 1.044 | 1.3288
5205420021 | 1.044 | 1.3288
5205420029 | 1.044 | 1.3288
5205420090 | 1.044 | 1.3288
5205430021 | 1.044 | 1.3288
5205430029 | 1.044 | 1.3288
5205430090 | 1.044 | 1.3288
5205440021 | 1.044 | 1.3288
5205440029 | 1.044 | 1.3288
5205440090 | 1.044 | 1.3288
5205460021 | 1.044 | 1.3288
5205460029 | 1.044 | 1.3288
5205460090 | 1.044 | 1.3288
5205470021 | 1.044 | 1.3288
5205470029 | 1.044 | 1.3288
5205470090 | 1.044 | 1.3288
5205480020 | 1.044 | 1.3288
5205480090 | 1.044 | 1.3288
5206110000 | 0.7368 | 0.9378
5206120000 | 0.7368 | 0.9378
5206130000 | 0.7368 | 0.9378
5206140000 | 0.7368 | 0.9378
5206150000 | 0.7368 | 0.9378
5206210000 | 0.7692 | 0.9790
5206220000 | 0.7692 | 0.9790
5206230000 | 0.7692 | 0.9790
5206240000 | 0.7692 | 0.9790
5206250000 | 0.7692 | 0.9790
5206310000 | 0.7368 | 0.9378
5206320000 | 0.7368 | 0.9378
5206330000 | 0.7368 | 0.9378
5206340000 | 0.7368 | 0.9378
5206350000 | 0.7368 | 0.9378
5206410000 | 0.7692 | 0.9790
5206420000 | 0.7692 | 0.9790
5206430000 | 0.7692 | 0.9790
5206440000 | 0.7692 | 0.9790
5206450000 | 0.7692 | 0.9790
5207100000 | 0.9474 | 1.2059
5207900000 | 0.6316 | 0.8039
5208112020 | 1.0852 | 1.3812
5208112040 | 1.0852 | 1.3812
5208112090 | 1.0852 | 1.3812
5208114020 | 1.0852 | 1.3812
5208114040 | 1.0852 | 1.3812
5208114060 | 1.0852 | 1.3812
5208114090 | 1.0852 | 1.3812
5208116000 | 1.0852 | 1.3812
5208118020 | 1.0852 | 1.3812
5208118090 | 1.0852 | 1.3812
5208124020 | 1.0852 | 1.3812
5208124040 | 1.0852 | 1.3812
5208124090 | 1.0852 | 1.3812
5208126020 | 1.0852 | 1.3812
5208126040 | 1.0852 | 1.3812
5208126060 | 1.0852 | 1.3812
5208126090 | 1.0852 | 1.3812
5208128020 | 1.0852 | 1.3812
5208128090 | 1.0852 | 1.3812
5208130000 | 1.0852 | 1.3812
5208192020 | 1.0852 | 1.3812
5208192090 | 1.0852 | 1.3812
5208194020 | 1.0852 | 1.3812
5208194090 | 1.0852 | 1.3812
5208196020 | 1.0852 | 1.3812
5208196090 | 1.0852 | 1.3812
5208198020 | 1.0852 | 1.3812
5208198090 | 1.0852 | 1.3812
5208212020 | 1.0852 | 1.3812
5208212040 | 1.0852 | 1.3812
5208212090 | 1.0852 | 1.3812
5208214020 | 1.0852 | 1.3812
5208214040 | 1.0852 | 1.3812
5208214060 | 1.0852 | 1.3812
5208214090 | 1.0852 | 1.3812
5208216020 | 1.0852 | 1.3812
5208216090 | 1.0852 | 1.3812
5208224020 | 1.0852 | 1.3812
5208224040 | 1.0852 | 1.3812
5208224090 | 1.0852 | 1.3812
5208226020 | 1.0852 | 1.3812
5208226040 | 1.0852 | 1.3812
5208226060 | 1.0852 | 1.3812
5208226090 | 1.0852 | 1.3812
5208228020 | 1.0852 | 1.3812
5208228090 | 1.0852 | 1.3812
5208230000 | 1.0852 | 1.3812
5208292020 | 1.0852 | 1.3812
5208292090 | 1.0852 | 1.3812
5208294020 | 1.0852 | 1.3812
5208294090 | 1.0852 | 1.3812
5208296020 | 1.0852 | 1.3812
5208296090 | 1.0852 | 1.3812
5208298020 | 1.0852 | 1.3812
5208298090 | 1.0852 | 1.3812
5208312000 | 1.0852 | 1.3812
5208314020 | 1.0852 | 1.3812
5208314040 | 1.0852 | 1.3812
5208314090 | 1.0852 | 1.3812
5208316020 | 1.0852 | 1.3812
5208316040 | 1.0852 | 1.3812
5208316060 | 1.0852 | 1.3812
5208316090 | 1.0852 | 1.3812
5208318020 | 1.0852 | 1.3812
5208318090 | 1.0852 | 1.3812
5208321000 | 1.0852 | 1.3812
5208323020 | 1.0852 | 1.3812
5208323040 | 1.0852 | 1.3812
5208323090 | 1.0852 | 1.3812
5208324020 | 1.0852 | 1.3812
5208324040 | 1.0852 | 1.3812
5208324060 | 1.0852 | 1.3812
5208324090 | 1.0852 | 1.3812
5208325020 | 1.0852 | 1.3812
5208325090 | 1.0852 | 1.3812
5208330000 | 1.0852 | 1.3812
5208392020 | 1.0852 | 1.3812
5208392090 | 1.0852 | 1.3812
5208394020 | 1.0852 | 1.3812
5208394090 | 1.0852 | 1.3812
5208396020 | 1.0852 | 1.3812
5208396090 | 1.0852 | 1.3812
5208398020 | 1.0852 | 1.3812
5208398090 | 1.0852 | 1.3812
5208412000 | 1.0852 | 1.3812
5208414000 | 1.0852 | 1.3812
5208416000 | 1.0852 | 1.3812
5208418000 | 1.0852 | 1.3812
5208421000 | 1.0852 | 1.3812
5208423000 | 1.0852 | 1.3812
5208424000 | 1.0852 | 1.3812
5208425000 | 1.0852 | 1.3812
5208430000 | 1.0852 | 1.3812
5208492000 | 1.0852 | 1.3812
5208494010 | 1.0852 | 1.3812
5208494020 | 1.0852 | 1.3812
5208494090 | 1.0852 | 1.3812
5208496010 | 1.0852 | 1.3812
5208496020 | 1.0852 | 1.3812
5208496030 | 1.0852 | 1.3812
5208496090 | 1.0852 | 1.3812
5208498020 | 1.0852 | 1.3812
5208498090 | 1.0852 | 1.3812
5208512000 | 1.0852 | 1.3812
5208514020 | 1.0852 | 1.3812
5208514040 | 1.0852 | 1.3812
5208514090 | 1.0852 | 1.3812
5208516020 | 1.0852 | 1.3812
5208516040 | 1.0852 | 1.3812
5208516060 | 1.0852 | 1.3812
5208516090 | 1.0852 | 1.3812
5208518020 | 1.0852 | 1.3812
5208518090 | 1.0852 | 1.3812
5208521000 | 1.0852 | 1.3812
5208523020 | 1.0852 | 1.3812
5208523035 | 1.0852 | 1.3812
5208523045 | 1.0852 | 1.3812
5208523090 | 1.0852 | 1.3812
5208524020 | 1.0852 | 1.3812
5208524035 | 1.0852 | 1.3812
5208524045 | 1.0852 | 1.3812
5208524055 | 1.0852 | 1.3812
5208524065 | 1.0852 | 1.3812
5208524090 | 1.0852 | 1.3812
5208525020 | 1.0852 | 1.3812
5208525090 | 1.0852 | 1.3812
5208591000 | 1.0852 | 1.3812
5208592015 | 1.0852 | 1.3812
5208592025 | 1.0852 | 1.3812
5208592085 | 1.0852 | 1.3812
5208592095 | 1.0852 | 1.3812
5208594020 | 1.0852 | 1.3812
5208594090 | 1.0852 | 1.3812
5208596020 | 1.0852 | 1.3812
5208596090 | 1.0852 | 1.3812
5208598020 | 1.0852 | 1.3812
5208598090 | 1.0852 | 1.3812
5209110020 | 1.0309 | 1.3121
5209110025 | 1.0309 | 1.3121
5209110035 | 1.0309 | 1.3121
5209110050 | 1.0309 | 1.3121
5209110090 | 1.0309 | 1.3121
5209120020 | 1.0309 | 1.3121
5209120040 | 1.0309 | 1.3121
5209190020 | 1.0309 | 1.3121
5209190040 | 1.0309 | 1.3121
5209190060 | 1.0309 | 1.3121
5209190090 | 1.0309 | 1.3121
5209210020 | 1.0309 | 1.3121
5209210025 | 1.0309 | 1.3121
5209210035 | 1.0309 | 1.3121
5209210050 | 1.0309 | 1.3121
5209210090 | 1.0309 | 1.3121
5209220020 | 1.0309 | 1.3121
5209220040 | 1.0309 | 1.3121
5209290020 | 1.0309 | 1.3121
5209290040 | 1.0309 | 1.3121
5209290060 | 1.0309 | 1.3121
5209290090 | 1.0309 | 1.3121
5209313000 | 1.0309 | 1.3121
5209316020 | 1.0309 | 1.3121
5209316025 | 1.0309 | 1.3121
5209316035 | 1.0309 | 1.3121
5209316050 | 1.0309 | 1.3121
5209316090 | 1.0309 | 1.3121
5209320020 | 1.0309 | 1.3121
5209320040 | 1.0309 | 1.3121
5209390020 | 1.0309 | 1.3121
5209390040 | 1.0309 | 1.3121
5209390060 | 1.0309 | 1.3121
5209390080 | 1.0309 | 1.3121
5209390090 | 1.0309 | 1.3121
5209413000 | 1.0309 | 1.3121
5209416020 | 1.0309 | 1.3121
5209416040 | 1.0309 | 1.3121
5209420020 | 0.9767 | 1.2431
5209420040 | 0.9767 | 1.2431
5209420060 | 0.9767 | 1.2431
5209420080 | 0.9767 | 1.2431
5209430030 | 1.0309 | 1.3121
5209430050 | 1.0309 | 1.3121
5209490020 | 1.0309 | 1.3121
5209490040 | 1.0309 | 1.3121
5209490090 | 1.0309 | 1.3121
5209513000 | 1.0309 | 1.3121
5209516015 | 1.0852 | 1.3812
5209516025 | 1.0852 | 1.3812
5209516032 | 1.0852 | 1.3812
5209516035 | 1.0852 | 1.3812
5209516050 | 1.0852 | 1.3812
5209516090 | 1.0852 | 1.3812
5209520020 | 1.0852 | 1.3812
5209520040 | 1.0852 | 1.3812
5209590015 | 1.0852 | 1.3812
5209590025 | 1.0852 | 1.3812
5209590040 | 1.0852 | 1.3812
5209590060 | 1.0852 | 1.3812
5209590090 | 1.0852 | 1.3812
5210114020 | 0.6511 | 0.8287
5210114040 | 0.6511 | 0.8287
5210114090 | 0.6511 | 0.8287
5210116020 | 0.6511 | 0.8287
5210116040 | 0.6511 | 0.8287
5210116060 | 0.6511 | 0.8287
5210116090 | 0.6511 | 0.8287
5210118020 | 0.6511 | 0.8287
5210118090 | 0.6511 | 0.8287
5210191000 | 0.6511 | 0.8287
5210192020 | 0.6511 | 0.8287
5210192090 | 0.6511 | 0.8287
5210194020 | 0.6511 | 0.8287
5210194090 | 0.6511 | 0.8287
5210196020 | 0.6511 | 0.8287
5210196090 | 0.6511 | 0.8287
5210198020 | 0.6511 | 0.8287
5210198090 | 0.6511 | 0.8287
5210214020 | 0.6511 | 0.8287
5210214040 | 0.6511 | 0.8287
5210214090 | 0.6511 | 0.8287
5210216020 | 0.6511 | 0.8287
5210216040 | 0.6511 | 0.8287
5210216060 | 0.6511 | 0.8287
5210216090 | 0.6511 | 0.8287
5210218020 | 0.6511 | 0.8287
5210218090 | 0.6511 | 0.8287
5210291000 | 0.6511 | 0.8287
5210292020 | 0.6511 | 0.8287
5210292090 | 0.6511 | 0.8287
5210294020 | 0.6511 | 0.8287
5210294090 | 0.6511 | 0.8287
5210296020 | 0.6511 | 0.8287
5210296090 | 0.6511 | 0.8287
5210298020 | 0.6511 | 0.8287
5210298090 | 0.6511 | 0.8287
5210314020 | 0.6511 | 0.8287
5210314040 | 0.6511 | 0.8287
5210314090 | 0.6511 | 0.8287
5210316020 | 0.6511 | 0.8287
5210316040 | 0.6511 | 0.8287
5210316060 | 0.6511 | 0.8287
5210316090 | 0.6511 | 0.8287
5210318020 | 0.6511 | 0.8287
5210318090 | 0.6511 | 0.8287
5210320000 | 0.6511 | 0.8287
5210392020 | 0.6511 | 0.8287
5210392090 | 0.6511 | 0.8287
5210394020 | 0.6511 | 0.8287
5210394090 | 0.6511 | 0.8287
5210396020 | 0.6511 | 0.8287
5210396090 | 0.6511 | 0.8287
5210398020 | 0.6511 | 0.8287
5210398090 | 0.6511 | 0.8287
5210414000 | 0.6511 | 0.8287
5210416000 | 0.6511 | 0.8287
5210418000 | 0.6511 | 0.8287
5210491000 | 0.6511 | 0.8287
5210492000 | 0.6511 | 0.8287
5210494010 | 0.6511 | 0.8287
5210494020 | 0.6511 | 0.8287
5210494090 | 0.6511 | 0.8287
5210496010 | 0.6511 | 0.8287
5210496020 | 0.6511 | 0.8287
5210496090 | 0.6511 | 0.8287
5210498020 | 0.6511 | 0.8287
5210498090 | 0.6511 | 0.8287
5210514020 | 0.6511 | 0.8287
5210514040 | 0.6511 | 0.8287
5210514090 | 0.6511 | 0.8287
5210516020 | 0.6511 | 0.8287
5210516040 | 0.6511 | 0.8287
5210516060 | 0.6511 | 0.8287
5210516090 | 0.6511 | 0.8287
5210518020 | 0.6511 | 0.8287
5210518090 | 0.6511 | 0.8287
5210591000 | 0.6511 | 0.8287
5210592020 | 0.6511 | 0.8287
5210592090 | 0.6511 | 0.8287
5210594020 | 0.6511 | 0.8287
5210594090 | 0.6511 | 0.8287
5210596020 | 0.6511 | 0.8287
5210596090 | 0.6511 | 0.8287
5210598020 | 0.6511 | 0.8287
5210598090 | 0.6511 | 0.8287
5211110020 | 0.6511 | 0.8287
5211110025 | 0.6511 | 0.8287
5211110035 | 0.6511 | 0.8287
5211110050 | 0.6511 | 0.8287
5211110090 | 0.6511 | 0.8287
5211120020 | 0.6511 | 0.8287
5211120040 | 0.6511 | 0.8287
5211190020 | 0.6511 | 0.8287
5211190040 | 0.6511 | 0.8287
5211190060 | 0.6511 | 0.8287
5211190090 | 0.6511 | 0.8287
5211202120 | 0.6511 | 0.8287
5211202125 | 0.6511 | 0.8287
5211202135 | 0.6511 | 0.8287
5211202150 | 0.6511 | 0.8287
5211202190 | 0.6511 | 0.8287
5211202220 | 0.6511 | 0.8287
5211202240 | 0.6511 | 0.8287
5211202920 | 0.6511 | 0.8287
5211202940 | 0.6511 | 0.8287
5211202960 | 0.6511 | 0.8287
5211202990 | 0.6511 | 0.8287
5211310020 | 0.6511 | 0.8287
5211310025 | 0.6511 | 0.8287
5211310035 | 0.6511 | 0.8287
5211310050 | 0.6511 | 0.8287
5211310090 | 0.6511 | 0.8287
5211320020 | 0.6511 | 0.8287
5211320040 | 0.6511 | 0.8287
5211390020 | 0.6511 | 0.8287
5211390040 | 0.6511 | 0.8287
5211390060 | 0.6511 | 0.8287
5211390090 | 0.6511 | 0.8287
5211410020 | 0.6511 | 0.8287
5211410040 | 0.6511 | 0.8287
5211420020 | 0.7054 | 0.8978
5211420040 | 0.7054 | 0.8978
5211420060 | 0.6511 | 0.8287
5211420080 | 0.6511 | 0.8287
5211430030 | 0.6511 | 0.8287
5211430050 | 0.6511 | 0.8287
5211490020 | 0.6511 | 0.8287
5211490090 | 0.6511 | 0.8287
5211510020 | 0.6511 | 0.8287
5211510030 | 0.6511 | 0.8287
5211510050 | 0.6511 | 0.8287
5211510090 | 0.6511 | 0.8287
5211520020 | 0.6511 | 0.8287
5211520040 | 0.6511 | 0.8287
5211590015 | 0.6511 | 0.8287
5211590025 | 0.6511 | 0.8287
5211590040 | 0.6511 | 0.8287
5211590060 | 0.6511 | 0.8287
5211590090 | 0.6511 | 0.8287
5212111010 | 0.5845 | 0.7440
5212111020 | 0.6231 | 0.7931
5212116010 | 0.8681 | 1.1049
5212116020 | 0.8681 | 1.1049
5212116030 | 0.8681 | 1.1049
5212116040 | 0.8681 | 1.1049
5212116050 | 0.8681 | 1.1049
5212116060 | 0.8681 | 1.1049
5212116070 | 0.8681 | 1.1049
5212116080 | 0.8681 | 1.1049
5212116090 | 0.8681 | 1.1049
5212121010 | 0.5845 | 0.7440
5212121020 | 0.6231 | 0.7931
5212126010 | 0.8681 | 1.1049
5212126020 | 0.8681 | 1.1049
5212126030 | 0.8681 | 1.1049
5212126040 | 0.8681 | 1.1049
5212126050 | 0.8681 | 1.1049
5212126060 | 0.8681 | 1.1049
5212126070 | 0.8681 | 1.1049
5212126080 | 0.8681 | 1.1049
5212126090 | 0.8681 | 1.1049
5212131010 | 0.5845 | 0.7440
5212131020 | 0.6231 | 0.7931
5212136010 | 0.8681 | 1.1049
5212136020 | 0.8681 | 1.1049
5212136030 | 0.8681 | 1.1049
5212136040 | 0.8681 | 1.1049
5212136050 | 0.8681 | 1.1049
5212136060 | 0.8681 | 1.1049
5212136070 | 0.8681 | 1.1049
5212136080 | 0.8681 | 1.1049
5212136090 | 0.8681 | 1.1049
5212141010 | 0.5845 | 0.7440
5212141020 | 0.6231 | 0.7931
5212146010 | 0.8681 | 1.1049
5212146020 | 0.8681 | 1.1049
5212146030 | 0.8681 | 1.1049
5212146090 | 0.8681 | 1.1049
5212151010 | 0.5845 | 0.7440
5212151020 | 0.6231 | 0.7931
5212156010 | 0.8681 | 1.1049
5212156020 | 0.8681 | 1.1049
5212156030 | 0.8681 | 1.1049
5212156040 | 0.8681 | 1.1049
5212156050 | 0.8681 | 1.1049
5212156060 | 0.8681 | 1.1049
5212156070 | 0.8681 | 1.1049
5212156080 | 0.8681 | 1.1049
5212156090 | 0.8681 | 1.1049
5212211010 | 0.5845 | 0.7440
5212211020 | 0.6231 | 0.7931
5212216010 | 0.8681 | 1.1049
5212216020 | 0.8681 | 1.1049
5212216030 | 0.8681 | 1.1049
5212216040 | 0.8681 | 1.1049
5212216050 | 0.8681 | 1.1049
5212216060 | 0.8681 | 1.1049
5212216090 | 0.8681 | 1.1049
5212221010 | 0.5845 | 0.7440
5212221020 | 0.6231 | 0.7931
5212226010 | 0.8681 | 1.1049
5212226020 | 0.8681 | 1.1049
5212226030 | 0.8681 | 1.1049
5212226040 | 0.8681 | 1.1049
5212226050 | 0.8681 | 1.1049
5212226060 | 0.8681 | 1.1049
5212226090 | 0.8681 | 1.1049
5212231010 | 0.5845 | 0.7440
5212231020 | 0.6231 | 0.7931
5212236010 | 0.8681 | 1.1049
5212236020 | 0.8681 | 1.1049
5212236030 | 0.8681 | 1.1049
5212236040 | 0.8681 | 1.1049
5212236050 | 0.8681 | 1.1049
5212236060 | 0.8681 | 1.1049
5212236090 | 0.8681 | 1.1049
5212241010 | 0.5845 | 0.7440
5212241020 | 0.6231 | 0.7931
5212246010 | 0.8681 | 1.1049
5212246020 | 0.7054 | 0.8978
5212246030 | 0.8681 | 1.1049
5212246040 | 0.8681 | 1.1049
5212246090 | 0.8681 | 1.1049
5212251010 | 0.5845 | 0.7440
5212251020 | 0.6231 | 0.7931
5212256010 | 0.8681 | 1.1049
5212256020 | 0.8681 | 1.1049
5212256030 | 0.8681 | 1.1049
5212256040 | 0.8681 | 1.1049
5212256050 | 0.8681 | 1.1049
5212256060 | 0.8681 | 1.1049
5212256090 | 0.8681 | 1.1049
5309213005 | 0.5426 | 0.6906
5309213010 | 0.5426 | 0.6906
5309213015 | 0.5426 | 0.6906
5309213020 | 0.5426 | 0.6906
5309214010 | 0.2713 | 0.3453
5309214090 | 0.2713 | 0.3453
5309293005 | 0.5426 | 0.6906
5309293010 | 0.5426 | 0.6906
5309293015 | 0.5426 | 0.6906
5309293020 | 0.5426 | 0.6906
5309294010 | 0.2713 | 0.3453
5309294090 | 0.2713 | 0.3453
5311003005 | 0.5426 | 0.6906
5311003010 | 0.5426 | 0.6906
5311003015 | 0.5426 | 0.6906
5311003020 | 0.5426 | 0.6906
5311004010 | 0.8681 | 1.1049
5311004020 | 0.8681 | 1.1049
5407810010 | 0.5426 | 0.6906
5407810020 | 0.5426 | 0.6906
5407810030 | 0.5426 | 0.6906
5407810040 | 0.5426 | 0.6906
5407810090 | 0.5426 | 0.6906
5407820010 | 0.5426 | 0.6906
5407820020 | 0.5426 | 0.6906
5407820030 | 0.5426 | 0.6906
5407820040 | 0.5426 | 0.6906
5407820090 | 0.5426 | 0.6906
5407830010 | 0.5426 | 0.6906
5407830020 | 0.5426 | 0.6906
5407830030 | 0.5426 | 0.6906
5407830040 | 0.5426 | 0.6906
5407830090 | 0.5426 | 0.6906
5407840010 | 0.5426 | 0.6906
5407840020 | 0.5426 | 0.6906
5407840030 | 0.5426 | 0.6906
5407840040 | 0.5426 | 0.6906
5407840090 | 0.5426 | 0.6906
5509210000 | 0.1053 | 0.1340
5509220010 | 0.1053 | 0.1340
5509220090 | 0.1053 | 0.1340
5509530030 | 0.3158 | 0.4020
5509530060 | 0.3158 | 0.4020
5509620000 | 0.5263 | 0.6699
5509920000 | 0.5263 | 0.6699
5510300000 | 0.3684 | 0.4689
5511200000 | 0.3158 | 0.4020
5512110010 | 0.1085 | 0.1381
5512110022 | 0.1085 | 0.1381
5512110027 | 0.1085 | 0.1381
5512110030 | 0.1085 | 0.1381
5512110040 | 0.1085 | 0.1381
5512110050 | 0.1085 | 0.1381
5512110060 | 0.1085 | 0.1381
5512110070 | 0.1085 | 0.1381
5512110090 | 0.1085 | 0.1381
5512190005 | 0.1085 | 0.1381
5512190010 | 0.1085 | 0.1381
5512190015 | 0.1085 | 0.1381
5512190022 | 0.1085 | 0.1381
5512190027 | 0.1085 | 0.1381
5512190030 | 0.1085 | 0.1381
5512190035 | 0.1085 | 0.1381
5512190040 | 0.1085 | 0.1381
5512190045 | 0.1085 | 0.1381
5512190050 | 0.1085 | 0.1381
5512190090 | 0.1085 | 0.1381
5512210010 | 0.0326 | 0.0415
5512210020 | 0.0326 | 0.0415
5512210030 | 0.0326 | 0.0415
5512210040 | 0.0326 | 0.0415
5512210060 | 0.0326 | 0.0415
5512210070 | 0.0326 | 0.0415
5512210090 | 0.0326 | 0.0415
5512290010 | 0.217 | 0.2762
5512910010 | 0.0543 | 0.0691
5512990005 | 0.0543 | 0.0691
5512990010 | 0.0543 | 0.0691
5512990015 | 0.0543 | 0.0691
5512990020 | 0.0543 | 0.0691
5512990025 | 0.0543 | 0.0691
5512990030 | 0.0543 | 0.0691
5512990035 | 0.0543 | 0.0691
5512990040 | 0.0543 | 0.0691
5512990045 | 0.0543 | 0.0691
5512990090 | 0.0543 | 0.0691
5513110020 | 0.3581 | 0.4558
5513110040 | 0.3581 | 0.4558
5513110060 | 0.3581 | 0.4558
5513110090 | 0.3581 | 0.4558
5513120000 | 0.3581 | 0.4558
5513130020 | 0.3581 | 0.4558
5513130040 | 0.3581 | 0.4558
5513130090 | 0.3581 | 0.4558
5513190010 | 0.3581 | 0.4558
5513190020 | 0.3581 | 0.4558
5513190030 | 0.3581 | 0.4558
5513190040 | 0.3581 | 0.4558
5513190050 | 0.3581 | 0.4558
5513190060 | 0.3581 | 0.4558
5513190090 | 0.3581 | 0.4558
5513210020 | 0.3581 | 0.4558
5513210040 | 0.3581 | 0.4558
5513210060 | 0.3581 | 0.4558
5513210090 | 0.3581 | 0.4558
5513230121 | 0.3581 | 0.4558
5513230141 | 0.3581 | 0.4558
5513230191 | 0.3581 | 0.4558
5513290010 | 0.3581 | 0.4558
5513290020 | 0.3581 | 0.4558
5513290030 | 0.3581 | 0.4558
5513290040 | 0.3581 | 0.4558
5513290050 | 0.3581 | 0.4558
5513290060 | 0.3581 | 0.4558
5513290090 | 0.3581 | 0.4558
5513310000 | 0.3581 | 0.4558
5513390111 | 0.3581 | 0.4558
5513390115 | 0.3581 | 0.4558
5513390191 | 0.3581 | 0.4558
5513410020 | 0.3581 | 0.4558
5513410040 | 0.3581 | 0.4558
5513410060 | 0.3581 | 0.4558
5513410090 | 0.3581 | 0.4558
5513491000 | 0.3581 | 0.4558
5513492020 | 0.3581 | 0.4558
5513492040 | 0.3581 | 0.4558
5513492090 | 0.3581 | 0.4558
5513499010 | 0.3581 | 0.4558
5513499020 | 0.3581 | 0.4558
5513499030 | 0.3581 | 0.4558
5513499040 | 0.3581 | 0.4558
5513499050 | 0.3581 | 0.4558
5513499060 | 0.3581 | 0.4558
5513499090 | 0.3581 | 0.4558
5514110020 | 0.4341 | 0.5525
5514110030 | 0.4341 | 0.5525
5514110050 | 0.4341 | 0.5525
5514110090 | 0.4341 | 0.5525
5514120020 | 0.4341 | 0.5525
5514120040 | 0.4341 | 0.5525
5514191020 | 0.4341 | 0.5525
5514191040 | 0.4341 | 0.5525
5514191090 | 0.4341 | 0.5525
5514199010 | 0.4341 | 0.5525
5514199020 | 0.4341 | 0.5525
5514199030 | 0.4341 | 0.5525
5514199040 | 0.4341 | 0.5525
5514199090 | 0.4341 | 0.5525
5514210020 | 0.4341 | 0.5525
5514210030 | 0.4341 | 0.5525
5514210050 | 0.4341 | 0.5525
5514210090 | 0.4341 | 0.5525
5514220020 | 0.4341 | 0.5525
5514220040 | 0.4341 | 0.5525
5514230020 | 0.4341 | 0.5525
5514230040 | 0.4341 | 0.5525
5514230090 | 0.4341 | 0.5525
5514290010 | 0.4341 | 0.5525
5514290020 | 0.4341 | 0.5525
5514290030 | 0.4341 | 0.5525
5514290040 | 0.4341 | 0.5525
5514290090 | 0.4341 | 0.5525
5514303100 | 0.4341 | 0.5525
5514303210 | 0.4341 | 0.5525
5514303215 | 0.4341 | 0.5525
5514303280 | 0.4341 | 0.5525
5514303310 | 0.4341 | 0.5525
5514303390 | 0.4341 | 0.5525
5514303910 | 0.4341 | 0.5525
5514303920 | 0.4341 | 0.5525
5514303990 | 0.4341 | 0.5525
5514410020 | 0.4341 | 0.5525
5514410030 | 0.4341 | 0.5525
5514410050 | 0.4341 | 0.5525
5514410090 | 0.4341 | 0.5525
5514420020 | 0.4341 | 0.5525
5514420040 | 0.4341 | 0.5525
5514430020 | 0.4341 | 0.5525
5514430040 | 0.4341 | 0.5525
5514430090 | 0.4341 | 0.5525
5514490010 | 0.4341 | 0.5525
5514490020 | 0.4341 | 0.5525
5514490030 | 0.4341 | 0.5525
5514490040 | 0.4341 | 0.5525
5514490090 | 0.4341 | 0.5525
5515110005 | 0.1085 | 0.1381
5515110010 | 0.1085 | 0.1381
5515110015 | 0.1085 | 0.1381
5515110020 | 0.1085 | 0.1381
5515110025 | 0.1085 | 0.1381
5515110030 | 0.1085 | 0.1381
5515110035 | 0.1085 | 0.1381
5515110040 | 0.1085 | 0.1381
5515110045 | 0.1085 | 0.1381
5515110090 | 0.1085 | 0.1381
5515120010 | 0.1085 | 0.1381
5515120022 | 0.1085 | 0.1381
5515120027 | 0.1085 | 0.1381
5515120030 | 0.1085 | 0.1381
5515120040 | 0.1085 | 0.1381
5515120090 | 0.1085 | 0.1381
5515190005 | 0.1085 | 0.1381
5515190010 | 0.1085 | 0.1381
5515190015 | 0.1085 | 0.1381
5515190020 | 0.1085 | 0.1381
5515190025 | 0.1085 | 0.1381
5515190030 | 0.1085 | 0.1381
5515190035 | 0.1085 | 0.1381
5515190040 | 0.1085 | 0.1381
5515190045 | 0.1085 | 0.1381
5515190090 | 0.1085 | 0.1381
5515290005 | 0.1085 | 0.1381
5515290010 | 0.1085 | 0.1381
5515290015 | 0.1085 | 0.1381
5515290020 | 0.1085 | 0.1381
5515290025 | 0.1085 | 0.1381
5515290030 | 0.1085 | 0.1381
5515290035 | 0.1085 | 0.1381
5515290040 | 0.1085 | 0.1381
5515290045 | 0.1085 | 0.1381
5515290090 | 0.1085 | 0.1381
5515999005 | 0.1085 | 0.1381
5515999010 | 0.1085 | 0.1381
5515999015 | 0.1085 | 0.1381
5515999020 | 0.1085 | 0.1381
5515999025 | 0.1085 | 0.1381
5515999030 | 0.1085 | 0.1381
5515999035 | 0.1085 | 0.1381
5515999040 | 0.1085 | 0.1381
5515999045 | 0.1085 | 0.1381
5515999090 | 0.1085 | 0.1381
5516210010 | 0.1085 | 0.1381
5516210020 | 0.1085 | 0.1381
5516210030 | 0.1085 | 0.1381
5516210040 | 0.1085 | 0.1381
5516210090 | 0.1085 | 0.1381
5516220010 | 0.1085 | 0.1381
5516220020 | 0.1085 | 0.1381
5516220030 | 0.1085 | 0.1381
5516220040 | 0.1085 | 0.1381
5516220090 | 0.1085 | 0.1381
5516230010 | 0.1085 | 0.1381
5516230020 | 0.1085 | 0.1381
5516230030 | 0.1085 | 0.1381
5516230040 | 0.1085 | 0.1381
5516230090 | 0.1085 | 0.1381
5516240010 | 0.1085 | 0.1381
5516240020 | 0.1085 | 0.1381
5516240030 | 0.1085 | 0.1381
5516240040 | 0.1085 | 0.1381
5516240085 | 0.1085 | 0.1381
5516240095 | 0.1085 | 0.1381
5516410010 | 0.3798 | 0.4834
5516410022 | 0.3798 | 0.4834
5516410027 | 0.3798 | 0.4834
5516410030 | 0.3798 | 0.4834
5516410040 | 0.3798 | 0.4834
5516410050 | 0.3798 | 0.4834
5516410060 | 0.3798 | 0.4834
5516410070 | 0.3798 | 0.4834
5516410090 | 0.3798 | 0.4834
5516420010 | 0.3798 | 0.4834
5516420022 | 0.3798 | 0.4834
5516420027 | 0.3798 | 0.4834
5516420030 | 0.3798 | 0.4834
5516420040 | 0.3798 | 0.4834
5516420050 | 0.3798 | 0.4834
5516420060 | 0.3798 | 0.4834
5516420070 | 0.3798 | 0.4834
5516420090 | 0.3798 | 0.4834
5516430010 | 0.217 | 0.2762
5516430015 | 0.3798 | 0.4834
5516430020 | 0.3798 | 0.4834
5516430035 | 0.3798 | 0.4834
5516430080 | 0.3798 | 0.4834
5516440010 | 0.3798 | 0.4834
5516440022 | 0.3798 | 0.4834
5516440027 | 0.3798 | 0.4834
5516440030 | 0.3798 | 0.4834
5516440040 | 0.3798 | 0.4834
5516440050 | 0.3798 | 0.4834
5516440060 | 0.3798 | 0.4834
5516440070 | 0.3798 | 0.4834
5516440090 | 0.3798 | 0.4834
5516910010 | 0.0543 | 0.0691
5516910020 | 0.0543 | 0.0691
5516910030 | 0.0543 | 0.0691
5516910040 | 0.0543 | 0.0691
5516910050 | 0.0543 | 0.0691
5516910060 | 0.0543 | 0.0691
5516910070 | 0.0543 | 0.0691
5516910090 | 0.0543 | 0.0691
5516920010 | 0.0543 | 0.0691
5516920020 | 0.0543 | 0.0691
5516920030 | 0.0543 | 0.0691
5516920040 | 0.0543 | 0.0691
5516920050 | 0.0543 | 0.0691
5516920060 | 0.0543 | 0.0691
5516920070 | 0.0543 | 0.0691
5516920090 | 0.0543 | 0.0691
5516930010 | 0.0543 | 0.0691
5516930020 | 0.0543 | 0.0691
5516930090 | 0.0543 | 0.0691
5516940010 | 0.0543 | 0.0691
5516940020 | 0.0543 | 0.0691
5516940030 | 0.0543 | 0.0691
5516940040 | 0.0543 | 0.0691
5516940050 | 0.0543 | 0.0691
5516940060 | 0.0543 | 0.0691
5516940070 | 0.0543 | 0.0691
5516940090 | 0.0543 | 0.0691
5601210010 | 0.9767 | 1.2431
5601210090 | 0.9767 | 1.2431
5601220010 | 0.9767 | 1.2431
5601220090 | 0.9767 | 1.2431
5601300000 | 0.3256 | 0.4144
5602101000 | 0.0543 | 0.0691
5602109090 | 0.4341 | 0.5525
5602290000 | 0.4341 | 0.5525
5602909000 | 0.3256 | 0.4144
5603143000 | 0.2713 | 0.3453
5603910010 | 0.0217 | 0.0276
5603910090 | 0.0651 | 0.0829
5603920010 | 0.0217 | 0.0276
5603920090 | 0.0651 | 0.0829
5603930010 | 0.0217 | 0.0276
5603930090 | 0.0651 | 0.0829
5603941090 | 0.3256 | 0.4144
5603943000 | 0.1628 | 0.2072
5603949010 | 0.0326 | 0.0415
5604100000 | 0.2632 | 0.3350
5604909000 | 0.2105 | 0.2679
5605009000 | 0.1579 | 0.2010
5606000010 | 0.1263 | 0.1608
5606000090 | 0.1263 | 0.1608
5607502500 | 0.1684 | 0.2143
5607909000 | 0.8421 | 1.0718
5608902300 | 0.6316 | 0.8039
5608902700 | 0.6316 | 0.8039
5608903000 | 0.3158 | 0.4020
5609001000 | 0.8421 | 1.0718
5609004000 | 0.2105 | 0.2679
5701101300 | 0.0526 | 0.0669
5701101600 | 0.0526 | 0.0669
5701104000 | 0.0526 | 0.0669
5701109000 | 0.0526 | 0.0669
5701901010 | 1 | 1.2728
5701901020 | 1 | 1.2728
5701901030 | 0.0526 | 0.0669
5701901090 | 0.0526 | 0.0669
5701902010 | 0.9474 | 1.2059
5701902020 | 0.9474 | 1.2059
5701902030 | 0.0526 | 0.0669
5701902090 | 0.0526 | 0.0669
5702101000 | 0.0447 | 0.0569
5702109010 | 0.0447 | 0.0569
5702109020 | 0.85 | 1.0819
5702109030 | 0.0447 | 0.0569
5702109090 | 0.0447 | 0.0569
5702201000 | 0.0447 | 0.0569
5702311000 | 0.0447 | 0.0569
5702312000 | 0.0895 | 0.1139
5702322000 | 0.0895 | 0.1139
5702391000 | 0.0895 | 0.1139
5702392010 | 0.8053 | 1.0250
5702392090 | 0.0447 | 0.0569
5702411000 | 0.0447 | 0.0569
5702412000 | 0.0447 | 0.0569
5702421000 | 0.0895 | 0.1139
5702422020 | 0.0895 | 0.1139
5702422080 | 0.0895 | 0.1139
5702491020 | 0.8947 | 1.1388
5702491080 | 0.8947 | 1.1388
5702492000 | 0.0895 | 0.1139
5702502000 | 0.0895 | 0.1139
5702504000 | 0.0447 | 0.0569
5702505200 | 0.0895 | 0.1139
5702505600 | 0.85 | 1.0819
5702912000 | 0.0447 | 0.0569
5702913000 | 0.0447 | 0.0569
5702914000 | 0.0447 | 0.0569
5702921000 | 0.0447 | 0.0569
5702929000 | 0.0447 | 0.0569
5702990500 | 0.8947 | 1.1388
5702991500 | 0.8947 | 1.1388
5703201000 | 0.0452 | 0.0575
5703202010 | 0.0452 | 0.0575
5703302000 | 0.0452 | 0.0575
5703900000 | 0.3615 | 0.4601
5705001000 | 0.0452 | 0.0575
5705002005 | 0.0452 | 0.0575
5705002015 | 0.0452 | 0.0575
5705002020 | 0.7682 | 0.9778
5705002030 | 0.0452 | 0.0575
5705002090 | 0.1808 | 0.2301
5801210000 | 0.9767 | 1.2431
5801221000 | 0.9767 | 1.2431
5801229000 | 0.9767 | 1.2431
5801230000 | 0.9767 | 1.2431
5801260010 | 0.7596 | 0.9668
5801260020 | 0.7596 | 0.9668
5801271000 | 0.9767 | 1.2431
5801275010 | 1.0852 | 1.3812
5801275020 | 0.9767 | 1.2431
5801310000 | 0.217 | 0.2762
5801320000 | 0.217 | 0.2762
5801330000 | 0.217 | 0.2762
5801360010 | 0.217 | 0.2762
5801360020 | 0.217 | 0.2762
5802110000 | 1.0309 | 1.3121
5802190000 | 1.0309 | 1.3121
5802200020 | 0.1085 | 0.1381
5802200090 | 0.3256 | 0.4144
5802300030 | 0.4341 | 0.5525
5802300090 | 0.1085 | 0.1381
5803001000 | 1.0852 | 1.3812
5803002000 | 0.8681 | 1.1049
5803003000 | 0.8681 | 1.1049
5803005000 | 0.3256 | 0.4144
5804101000 | 0.4341 | 0.5525
5804109090 | 0.2193 | 0.2791
5804291000 | 0.8772 | 1.1165
5804300020 | 0.3256 | 0.4144
5805001000 | 0.1085 | 0.1381
5805003000 | 1.0852 | 1.3812
5806101000 | 0.8681 | 1.1049
5806103090 | 0.217 | 0.2762
5806200010 | 0.2577 | 0.3280
5806200090 | 0.2577 | 0.3280
5806310000 | 0.8681 | 1.1049
5806393080 | 0.217 | 0.2762
5806400000 | 0.0814 | 0.1036
5807100510 | 0.8681 | 1.1049
5807102010 | 0.8681 | 1.1049
5807900510 | 0.8681 | 1.1049
5807902010 | 0.8681 | 1.1049
5808104000 | 0.217 | 0.2762
5808107000 | 0.217 | 0.2762
5808900010 | 0.4341 | 0.5525
5810100000 | 0.3256 | 0.4144
5810910010 | 0.7596 | 0.9668
5810910020 | 0.7596 | 0.9668
5810921000 | 0.217 | 0.2762
5810929030 | 0.217 | 0.2762
5810929050 | 0.217 | 0.2762
5810929080 | 0.217 | 0.2762
5811002000 | 0.8681 | 1.1049
5901102000 | 0.5643 | 0.7182
5901904000 | 0.8139 | 1.0359
5903101000 | 0.4341 | 0.5525
5903103000 | 0.1085 | 0.1381
5903201000 | 0.4341 | 0.5525
5903203090 | 0.1085 | 0.1381
5903901000 | 0.4341 | 0.5525
5903903090 | 0.1085 | 0.1381
5904901000 | 0.0326 | 0.0415
5905001000 | 0.1085 | 0.1381
5905009000 | 0.1085 | 0.1381
5906100000 | 0.4341 | 0.5525
5906911000 | 0.4341 | 0.5525
5906913000 | 0.1085 | 0.1381
5906991000 | 0.4341 | 0.5525
5906993000 | 0.1085 | 0.1381
5907002500 | 0.3798 | 0.4834
5907003500 | 0.3798 | 0.4834
5907008090 | 0.3798 | 0.4834
5908000000 | 0.7813 | 0.9944
5909001000 | 0.6837 | 0.8702
5909002000 | 0.4883 | 0.6215
5910001010 | 0.3798 | 0.4834
5910001020 | 0.3798 | 0.4834
5910001030 | 0.3798 | 0.4834
5910001060 | 0.3798 | 0.4834
5910001070 | 0.3798 | 0.4834
5910001090 | 0.6837 | 0.8702
5910009000 | 0.5697 | 0.7251
5911101000 | 0.1736 | 0.2210
5911102000 | 0.0434 | 0.0552
5911201000 | 0.4341 | 0.5525
5911310010 | 0.4341 | 0.5525
5911310020 | 0.4341 | 0.5525
5911310030 | 0.4341 | 0.5525
5911310080 | 0.4341 | 0.5525
5911320010 | 0.4341 | 0.5525
5911320020 | 0.4341 | 0.5525
5911320030 | 0.4341 | 0.5525
5911320080 | 0.4341 | 0.5525
5911400000 | 0.5426 | 0.6906
5911900040 | 0.3158 | 0.4020
5911900080 | 0.2105 | 0.2679
6001106000 | 0.1096 | 0.1395
6001210000 | 0.9868 | 1.2560
6001220000 | 0.1096 | 0.1395
6001290000 | 0.1096 | 0.1395
6001910010 | 0.8772 | 1.1165
6001910020 | 0.8772 | 1.1165
6001920010 | 0.0548 | 0.0697
6001920020 | 0.0548 | 0.0697
6001920030 | 0.0548 | 0.0697
6001920040 | 0.0548 | 0.0697
6001999000 | 0.1096 | 0.1395
6002404000 | 0.7401 | 0.9420
6002408020 | 0.1974 | 0.2513
6002408080 | 0.1974 | 0.2513
6002904000 | 0.7895 | 1.0049
6002908020 | 0.1974 | 0.2513
6002908080 | 0.1974 | 0.2513
6003201000 | 0.8772 | 1.1165
6003203000 | 0.8772 | 1.1165
6003301000 | 0.1096 | 0.1395
6003306000 | 0.1096 | 0.1395
6003401000 | 0.1096 | 0.1395
6003406000 | 0.1096 | 0.1395
6003901000 | 0.1096 | 0.1395
6003909000 | 0.1096 | 0.1395
6004100010 | 0.2961 | 0.3769
6004100025 | 0.2961 | 0.3769
6004100085 | 0.2961 | 0.3769
6004902010 | 0.2961 | 0.3769
6004902025 | 0.2961 | 0.3769
6004902085 | 0.2961 | 0.3769
6004909000 | 0.2961 | 0.3769
6005210000 | 0.7127 | 0.9071
6005220000 | 0.7127 | 0.9071
6005230000 | 0.7127 | 0.9071
6005240000 | 0.7127 | 0.9071
6005310010 | 0.1096 | 0.1395
6005310080 | 0.1096 | 0.1395
6005320010 | 0.1096 | 0.1395
6005320080 | 0.1096 | 0.1395
6005330010 | 0.1096 | 0.1395
6005330080 | 0.1096 | 0.1395
6005340010 | 0.1096 | 0.1395
6005340080 | 0.1096 | 0.1395
6005410010 | 0.1096 | 0.1395
6005410080 | 0.1096 | 0.1395
6005420010 | 0.1096 | 0.1395
6005420080 | 0.1096 | 0.1395
6005430010 | 0.1096 | 0.1395
6005430080 | 0.1096 | 0.1395
6005440010 | 0.1096 | 0.1395
6005440080 | 0.1096 | 0.1395
6005909000 | 0.1096 | 0.1395
6006211000 | 1.0965 | 1.3956
6006219020 | 0.7675 | 0.9769
6006219080 | 0.7675 | 0.9769
6006221000 | 1.0965 | 1.3956
6006229020 | 0.7675 | 0.9769
6006229080 | 0.7675 | 0.9769
6006231000 | 1.0965 | 1.3956
6006239020 | 0.7675 | 0.9769
6006239080 | 0.7675 | 0.9769
6006241000 | 1.0965 | 1.3956
6006249020 | 0.7675 | 0.9769
6006249080 | 0.7675 | 0.9769
6006310020 | 0.3289 | 0.4186
6006310040 | 0.3289 | 0.4186
6006310060 | 0.3289 | 0.4186
6006310080 | 0.3289 | 0.4186
6006320020 | 0.3289 | 0.4186
6006320040 | 0.3289 | 0.4186
6006320060 | 0.3289 | 0.4186
6006320080 | 0.3289 | 0.4186
6006330020 | 0.3289 | 0.4186
6006330040 | 0.3289 | 0.4186
6006330060 | 0.3289 | 0.4186
6006330080 | 0.3289 | 0.4186
6006340020 | 0.3289 | 0.4186
6006340040 | 0.3289 | 0.4186
6006340060 | 0.3289 | 0.4186
6006340080 | 0.3289 | 0.4186
6006410025 | 0.3289 | 0.4186
6006410085 | 0.3289 | 0.4186
6006420025 | 0.3289 | 0.4186
6006420085 | 0.3289 | 0.4186
6006430025 | 0.3289 | 0.4186
6006430085 | 0.3289 | 0.4186
6006440025 | 0.3289 | 0.4186
6006440085 | 0.3289 | 0.4186
6006909000 | 0.1096 | 0.1395
6101200010 | 1.02 | 1.2983
6101200020 | 1.02 | 1.2983
6101301000 | 0.2072 | 0.2637
6101900500 | 0.1912 | 0.2434
6101909010 | 0.5737 | 0.7302
6101909030 | 0.51 | 0.6491
6101909060 | 0.255 | 0.3246
6102100000 | 0.255 | 0.3246
6102200010 | 0.9562 | 1.2171
6102200020 | 0.9562 | 1.2171
6102300500 | 0.1785 | 0.2272
6102909005 | 0.5737 | 0.7302
6102909015 | 0.4462 | 0.5679
6102909030 | 0.255 | 0.3246
6103101000 | 0.0637 | 0.0811
6103104000 | 0.1218 | 0.1550
6103105000 | 0.1218 | 0.1550
6103106010 | 0.8528 | 1.0854
6103106015 | 0.8528 | 1.0854
6103106030 | 0.8528 | 1.0854
6103109010 | 0.5482 | 0.6977
6103109020 | 0.5482 | 0.6977
6103109030 | 0.5482 | 0.6977
6103109040 | 0.1218 | 0.1550
6103109050 | 0.1218 | 0.1550
6103109080 | 0.1827 | 0.2325
6103320000 | 0.8722 | 1.1101
6103398010 | 0.7476 | 0.9515
6103398030 | 0.3738 | 0.4758
6103398060 | 0.2492 | 0.3172
6103411010 | 0.3576 | 0.4552
6103411020 | 0.3576 | 0.4552
6103412000 | 0.3576 | 0.4552
6103421020 | 0.8343 | 1.0619
6103421035 | 0.8343 | 1.0619
6103421040 | 0.8343 | 1.0619
6103421050 | 0.8343 | 1.0619
6103421065 | 0.8343 | 1.0619
6103421070 | 0.8343 | 1.0619
6103422010 | 0.8343 | 1.0619
6103422015 | 0.8343 | 1.0619
6103422025 | 0.8343 | 1.0619
6103431520 | 0.2384 | 0.3034
6103431535 | 0.2384 | 0.3034
6103431540 | 0.2384 | 0.3034
6103431550 | 0.2384 | 0.3034
6103431565 | 0.2384 | 0.3034
6103431570 | 0.2384 | 0.3034
6103432020 | 0.2384 | 0.3034
6103432025 | 0.2384 | 0.3034
6103491020 | 0.2437 | 0.3102
6103491060 | 0.2437 | 0.3102
6103492000 | 0.2437 | 0.3102
6103498010 | 0.5482 | 0.6977
6103498014 | 0.3655 | 0.4652
6103498024 | 0.2437 | 0.3102
6103498026 | 0.2437 | 0.3102
6103498034 | 0.5482 | 0.6977
6103498038 | 0.3655 | 0.4652
6103498060 | 0.2437 | 0.3102
6104196010 | 0.8722 | 1.1101
6104196020 | 0.8722 | 1.1101
6104196030 | 0.8722 | 1.1101
6104196040 | 0.8722 | 1.1101
6104198010 | 0.5607 | 0.7137
6104198020 | 0.5607 | 0.7137
6104198030 | 0.5607 | 0.7137
6104198040 | 0.5607 | 0.7137
6104198060 | 0.3738 | 0.4758
6104198090 | 0.2492 | 0.3172
6104320000 | 0.8722 | 1.1101
6104392010 | 0.5607 | 0.7137
6104392030 | 0.3738 | 0.4758
6104392090 | 0.2492 | 0.3172
6104420010 | 0.8528 | 1.0854
6104420020 | 0.8528 | 1.0854
6104499010 | 0.5482 | 0.6977
6104499030 | 0.3655 | 0.4652
6104499060 | 0.2437 | 0.3102
6104520010 | 0.8822 | 1.1229
6104520020 | 0.8822 | 1.1229
6104598010 | 0.5672 | 0.7219
6104598030 | 0.3781 | 0.4812
6104598090 | 0.2521 | 0.3209
6104610010 | 0.2384 | 0.3034
6104610020 | 0.2384 | 0.3034
6104610030 | 0.2384 | 0.3034
6104621010 | 0.7509 | 0.9557
6104621020 | 0.8343 | 1.0619
6104621030 | 0.8343 | 1.0619
6104622006 | 0.7151 | 0.9102
6104622011 | 0.8343 | 1.0619
6104622016 | 0.7151 | 0.9102
6104622021 | 0.8343 | 1.0619
6104622026 | 0.7151 | 0.9102
6104622028 | 0.8343 | 1.0619
6104622030 | 0.8343 | 1.0619
6104622050 | 0.8343 | 1.0619
6104622060 | 0.8343 | 1.0619
6104631020 | 0.2384 | 0.3034
6104631030 | 0.2384 | 0.3034
6104632006 | 0.8343 | 1.0619
6104632011 | 0.8343 | 1.0619
6104632016 | 0.7151 | 0.9102
6104632021 | 0.8343 | 1.0619
6104632026 | 0.3576 | 0.4552
6104632028 | 0.3576 | 0.4552
6104632030 | 0.3576 | 0.4552
6104632050 | 0.7151 | 0.9102
6104632060 | 0.3576 | 0.4552
6104691000 | 0.3655 | 0.4652
6104692030 | 0.3655 | 0.4652
6104692060 | 0.3655 | 0.4652
6104698010 | 0.5482 | 0.6977
6104698014 | 0.3655 | 0.4652
6104698020 | 0.2437 | 0.3102
6104698022 | 0.5482 | 0.6977
6104698026 | 0.3655 | 0.4652
6104698038 | 0.2437 | 0.3102
6104698040 | 0.2437 | 0.3102
6105100010 | 0.9332 | 1.1878
6105100020 | 0.9332 | 1.1878
6105100030 | 0.9332 | 1.1878
6105202010 | 0.2916 | 0.3711
6105202020 | 0.2916 | 0.3711
6105202030 | 0.2916 | 0.3711
6105908010 | 0.5249 | 0.6681
6105908030 | 0.3499 | 0.4454
6105908060 | 0.2333 | 0.2969
6106100010 | 0.9332 | 1.1878
6106100020 | 0.9332 | 1.1878
6106100030 | 0.9332 | 1.1878
6106202010 | 0.2916 | 0.3711
6106202020 | 0.4666 | 0.5939
6106202030 | 0.2916 | 0.3711
6106901500 | 0.0583 | 0.0742
6106902510 | 0.5249 | 0.6681
6106902530 | 0.3499 | 0.4454
6106902550 | 0.2916 | 0.3711
6106903010 | 0.5249 | 0.6681
6106903030 | 0.3499 | 0.4454
6106903040 | 0.2916 | 0.3711
6107110010 | 1.0727 | 1.3653
6107110020 | 1.0727 | 1.3653
6107120010 | 0.4767 | 0.6067
6107120020 | 0.4767 | 0.6067
6107191000 | 0.1192 | 0.1517
6107210010 | 0.8343 | 1.0619
6107210020 | 0.7151 | 0.9102
6107220010 | 0.3576 | 0.4552
6107220015 | 0.1192 | 0.1517
6107220025 | 0.2384 | 0.3034
6107299000 | 0.1788 | 0.2276
6107910030 | 1.1918 | 1.5169
6107910040 | 1.1918 | 1.5169
6107910090 | 0.9535 | 1.2136
6107991030 | 0.3576 | 0.4552
6107991040 | 0.3576 | 0.4552
6107991090 | 0.3576 | 0.4552
6107999000 | 0.1192 | 0.1517
6108199010 | 1.0611 | 1.3506
6108199030 | 0.2358 | 0.3001
6108210010 | 1.179 | 1.5006
6108210020 | 1.179 | 1.5006
6108299000 | 0.3537 | 0.4502
6108310010 | 1.0611 | 1.3506
6108310020 | 1.0611 | 1.3506
6108320010 | 0.2358 | 0.3001
6108320015 | 0.2358 | 0.3001
6108320025 | 0.2358 | 0.3001
6108398000 | 0.3537 | 0.4502
6108910005 | 1.179 | 1.5006
6108910015 | 1.179 | 1.5006
6108910025 | 1.179 | 1.5006
6108910030 | 1.179 | 1.5006
6108910040 | 1.179 | 1.5006
6108920005 | 0.2358 | 0.3001
6108920015 | 0.2358 | 0.3001
6108920025 | 0.2358 | 0.3001
6108920030 | 0.2358 | 0.3001
6108920040 | 0.2358 | 0.3001
6108999000 | 0.3537 | 0.4502
6109100004 | 1.0022 | 1.2756
6109100007 | 1.0022 | 1.2756
6109100011 | 1.0022 | 1.2756
6109100012 | 1.0022 | 1.2756
6109100014 | 1.0022 | 1.2756
6109100018 | 1.0022 | 1.2756
6109100023 | 1.0022 | 1.2756
6109100027 | 1.0022 | 1.2756
6109100037 | 1.0022 | 1.2756
6109100040 | 1.0022 | 1.2756
6109100045 | 1.0022 | 1.2756
6109100060 | 1.0022 | 1.2756
6109100065 | 1.0022 | 1.2756
6109100070 | 1.0022 | 1.2756
6109901007 | 0.2948 | 0.3752
6109901009 | 0.2948 | 0.3752
6109901013 | 0.2948 | 0.3752
6109901025 | 0.2948 | 0.3752
6109901047 | 0.2948 | 0.3752
6109901049 | 0.2948 | 0.3752
6109901050 | 0.2948 | 0.3752
6109901060 | 0.2948 | 0.3752
6109901065 | 0.2948 | 0.3752
6109901070 | 0.2948 | 0.3752
6109901075 | 0.2948 | 0.3752
6109901090 | 0.2948 | 0.3752
6109908010 | 0.3499 | 0.4454
6109908030 | 0.2333 | 0.2969
6110201010 | 0.7476 | 0.9515
6110201020 | 0.7476 | 0.9515
6110201022 | 0.7476 | 0.9515
6110201024 | 0.7476 | 0.9515
6110201026 | 0.7476 | 0.9515
6110201029 | 0.7476 | 0.9515
6110201031 | 0.7476 | 0.9515
6110201033 | 0.7476 | 0.9515
6110202005 | 1.1214 | 1.4273
6110202010 | 1.1214 | 1.4273
6110202015 | 1.1214 | 1.4273
6110202020 | 1.1214 | 1.4273
6110202025 | 1.1214 | 1.4273
6110202030 | 1.1214 | 1.4273
6110202035 | 1.1214 | 1.4273
6110202040 | 1.0965 | 1.3956
6110202045 | 1.0965 | 1.3956
6110202067 | 1.0965 | 1.3956
6110202069 | 1.0965 | 1.3956
6110202077 | 1.0965 | 1.3956
6110202079 | 1.0965 | 1.3956
6110909010 | 0.5607 | 0.7137
6110909012 | 0.1246 | 0.1586
6110909014 | 0.3738 | 0.4758
6110909020 | 0.2492 | 0.3172
6110909022 | 0.2492 | 0.3172
6110909024 | 0.2492 | 0.3172
6110909026 | 0.5607 | 0.7137
6110909028 | 0.1869 | 0.2379
6110909030 | 0.3738 | 0.4758
6110909038 | 0.2492 | 0.3172
6110909040 | 0.2492 | 0.3172
6110909042 | 0.2492 | 0.3172
6110909044 | 0.5607 | 0.7137
6110909046 | 0.5607 | 0.7137
6110909052 | 0.3738 | 0.4758
6110909054 | 0.3738 | 0.4758
6110909064 | 0.2492 | 0.3172
6110909066 | 0.2492 | 0.3172
6110909067 | 0.5607 | 0.7137
6110909069 | 0.5607 | 0.7137
6110909071 | 0.5607 | 0.7137
6110909073 | 0.5607 | 0.7137
6110909079 | 0.3738 | 0.4758
6110909080 | 0.3738 | 0.4758
6110909081 | 0.3738 | 0.4758
6110909082 | 0.3738 | 0.4758
6110909088 | 0.2492 | 0.3172
6110909090 | 0.2492 | 0.3172
6111201000 | 1.1918 | 1.5169
6111202000 | 1.1918 | 1.5169
6111203000 | 0.9535 | 1.2136
6111204000 | 0.9535 | 1.2136
6111205000 | 0.9535 | 1.2136
6111206010 | 0.9535 | 1.2136
6111206020 | 0.9535 | 1.2136
6111206030 | 0.9535 | 1.2136
6111206050 | 0.9535 | 1.2136
6111206070 | 0.9535 | 1.2136
6111301000 | 0.2384 | 0.3034
6111302000 | 0.2384 | 0.3034
6111303000 | 0.2384 | 0.3034
6111304000 | 0.2384 | 0.3034
6111305010 | 0.2384 | 0.3034
6111305015 | 0.2384 | 0.3034
6111305020 | 0.2384 | 0.3034
6111305030 | 0.2384 | 0.3034
6111305050 | 0.2384 | 0.3034
6111305070 | 0.2384 | 0.3034
6111901000 | 0.2384 | 0.3034
6111902000 | 0.2384 | 0.3034
6111903000 | 0.2384 | 0.3034
6111904000 | 0.2384 | 0.3034
6111905010 | 0.2384 | 0.3034
6111905020 | 0.2384 | 0.3034
6111905030 | 0.2384 | 0.3034
6111905050 | 0.2384 | 0.3034
6111905070 | 0.2384 | 0.3034
6112110010 | 0.9535 | 1.2136
6112110020 | 0.9535 | 1.2136
6112110030 | 0.9535 | 1.2136
6112110040 | 0.9535 | 1.2136
6112110050 | 0.9535 | 1.2136
6112110060 | 0.9535 | 1.2136
6112120010 | 0.2384 | 0.3034
6112120020 | 0.2384 | 0.3034
6112120030 | 0.2384 | 0.3034
6112120040 | 0.2384 | 0.3034
6112120050 | 0.2384 | 0.3034
6112120060 | 0.2384 | 0.3034
6112191010 | 0.2492 | 0.3172
6112191020 | 0.2492 | 0.3172
6112191030 | 0.2492 | 0.3172
6112191040 | 0.2492 | 0.3172
6112191050 | 0.2492 | 0.3172
6112191060 | 0.2492 | 0.3172
6112201060 | 0.2492 | 0.3172
6112201070 | 0.2492 | 0.3172
6112201080 | 0.2492 | 0.3172
6112201090 | 0.2492 | 0.3172
6112202010 | 0.8722 | 1.1101
6112202020 | 0.3738 | 0.4758
6112202030 | 0.2492 | 0.3172
6112310010 | 0.1192 | 0.1517
6112310020 | 0.1192 | 0.1517
6112390010 | 1.0727 | 1.3653
6112410010 | 0.1192 | 0.1517
6112410020 | 0.1192 | 0.1517
6112410030 | 0.1192 | 0.1517
6112410040 | 0.1192 | 0.1517
6112490010 | 0.8939 | 1.1378
6113001005 | 0.1246 | 0.1586
6113001010 | 0.1246 | 0.1586
6113001012 | 0.1246 | 0.1586
6113009015 | 0.3489 | 0.4441
6113009020 | 0.3489 | 0.4441
6113009038 | 0.3489 | 0.4441
6113009042 | 0.3489 | 0.4441
6113009055 | 0.3489 | 0.4441
6113009060 | 0.3489 | 0.4441
6113009074 | 0.3489 | 0.4441
6113009082 | 0.3489 | 0.4441
6114200005 | 0.9747 | 1.2406
6114200010 | 0.9747 | 1.2406
6114200015 | 0.8528 | 1.0854
6114200020 | 0.8528 | 1.0854
6114200035 | 0.8528 | 1.0854
6114200040 | 0.8528 | 1.0854
6114200042 | 0.3655 | 0.4652
6114200044 | 0.8528 | 1.0854
6114200046 | 0.8528 | 1.0854
6114200048 | 0.8528 | 1.0854
6114200052 | 0.8528 | 1.0854
6114200055 | 0.8528 | 1.0854
6114200060 | 0.8528 | 1.0854
6114301010 | 0.2437 | 0.3102
6114301020 | 0.2437 | 0.3102
6114302060 | 0.1218 | 0.1550
6114303014 | 0.2437 | 0.3102
6114303020 | 0.2437 | 0.3102
6114303030 | 0.2437 | 0.3102
6114303042 | 0.2437 | 0.3102
6114303044 | 0.2437 | 0.3102
6114303052 | 0.2437 | 0.3102
6114303054 | 0.2437 | 0.3102
6114303060 | 0.2437 | 0.3102
6114303070 | 0.2437 | 0.3102
6114909045 | 0.5482 | 0.6977
6114909055 | 0.3655 | 0.4652
6114909070 | 0.3655 | 0.4652
6115100500 | 0.4386 | 0.5583
6115101510 | 1.0965 | 1.3956
6115103000 | 0.9868 | 1.2560
6115106000 | 0.1096 | 0.1395
6115298010 | 1.0965 | 1.3956
6115309030 | 0.7675 | 0.9769
6115956000 | 0.9868 | 1.2560
6115959000 | 0.9868 | 1.2560
6115966020 | 0.2193 | 0.2791
6115991420 | 0.2193 | 0.2791
6115991920 | 0.2193 | 0.2791
6115999000 | 0.1096 | 0.1395
6116101300 | 0.3463 | 0.4408
6116101720 | 0.8079 | 1.0283
6116104810 | 0.4444 | 0.5656
6116105510 | 0.6464 | 0.8227
6116107510 | 0.6464 | 0.8227
6116109500 | 0.1616 | 0.2057
6116920500 | 0.8079 | 1.0283
6116920800 | 0.8079 | 1.0283
6116926410 | 1.0388 | 1.3222
6116926420 | 1.0388 | 1.3222
6116926430 | 1.1542 | 1.4691
6116926440 | 1.0388 | 1.3222
6116927450 | 1.0388 | 1.3222
6116927460 | 1.1542 | 1.4691
6116927470 | 1.0388 | 1.3222
6116928800 | 1.0388 | 1.3222
6116929400 | 1.0388 | 1.3222
6116938800 | 0.1154 | 0.1469
6116939400 | 0.1154 | 0.1469
6116994800 | 0.1154 | 0.1469
6116995400 | 0.1154 | 0.1469
6116999510 | 0.4617 | 0.5877
6116999530 | 0.3463 | 0.4408
6117106010 | 0.9234 | 1.1753
6117106020 | 0.2308 | 0.2938
6117808500 | 0.9234 | 1.1753
6117808710 | 1.1542 | 1.4691
6117808770 | 0.1731 | 0.2203
6117809510 | 0.9234 | 1.1753
6117809540 | 0.3463 | 0.4408
6117809570 | 0.1731 | 0.2203
6117909003 | 1.1542 | 1.4691
6117909015 | 0.2308 | 0.2938
6117909020 | 1.1542 | 1.4691
6117909040 | 1.1542 | 1.4691
6117909060 | 1.1542 | 1.4691
6117909080 | 1.1542 | 1.4691
6201121000 | 0.8981 | 1.1431
6201122010 | 0.8482 | 1.0796
6201122020 | 0.8482 | 1.0796
6201122025 | 0.9979 | 1.2701
6201122035 | 0.9979 | 1.2701
6201122050 | 0.6486 | 0.8255
6201122060 | 0.6486 | 0.8255
6201134015 | 0.1996 | 0.2541
6201134020 | 0.1996 | 0.2541
6201134030 | 0.2495 | 0.3176
6201134040 | 0.2495 | 0.3176
6201199010 | 0.5613 | 0.7144
6201199030 | 0.3742 | 0.4763
6201199060 | 0.3742 | 0.4763
6201921000 | 0.8779 | 1.1174
6201921500 | 1.0974 | 1.3968
6201922005 | 0.9754 | 1.2415
6201922010 | 0.9754 | 1.2415
6201922021 | 1.2193 | 1.5519
6201922031 | 1.2193 | 1.5519
6201922041 | 1.2193 | 1.5519
6201922051 | 0.9754 | 1.2415
6201922061 | 0.9754 | 1.2415
6201931000 | 0.2926 | 0.3724
6201932010 | 0.2439 | 0.3104
6201932020 | 0.2439 | 0.3104
6201933511 | 0.2439 | 0.3104
6201933521 | 0.2439 | 0.3104
6201999010 | 0.5487 | 0.6984
6201999030 | 0.3658 | 0.4656
6201999060 | 0.2439 | 0.3104
6202121000 | 0.8879 | 1.1301
6202122010 | 1.0482 | 1.3341
6202122020 | 1.0482 | 1.3341
6202122025 | 1.2332 | 1.5696
6202122035 | 1.2332 | 1.5696
6202122050 | 0.8016 | 1.0203
6202122060 | 0.8016 | 1.0203
6202134005 | 0.2524 | 0.3213
6202134010 | 0.2524 | 0.3213
6202134020 | 0.3155 | 0.4016
6202134030 | 0.3155 | 0.4016
6202199010 | 0.5678 | 0.7227
6202199030 | 0.3786 | 0.4819
6202199060 | 0.2524 | 0.3213
6202921000 | 0.9865 | 1.2556
6202921500 | 0.9865 | 1.2556
6202922010 | 0.9865 | 1.2556
6202922020 | 0.9865 | 1.2556
6202922026 | 1.2332 | 1.5696
6202922031 | 1.2332 | 1.5696
6202922061 | 0.9865 | 1.2556
6202922071 | 0.9865 | 1.2556
6202931000 | 0.296 | 0.3767
6202932010 | 0.2466 | 0.3139
6202932020 | 0.2466 | 0.3139
6202935011 | 0.2466 | 0.3139
6202935021 | 0.2466 | 0.3139
6202999011 | 0.5549 | 0.7063
6202999031 | 0.37 | 0.4709
6202999061 | 0.2466 | 0.3139
6203122010 | 0.1233 | 0.1569
6203122020 | 0.1233 | 0.1569
6203191010 | 0.9865 | 1.2556
6203191020 | 0.9865 | 1.2556
6203191030 | 0.9865 | 1.2556
6203199010 | 0.5549 | 0.7063
6203199020 | 0.5549 | 0.7063
6203199030 | 0.5549 | 0.7063
6203199050 | 0.37 | 0.4709
6203199080 | 0.2466 | 0.3139
6203221000 | 1.2332 | 1.5696
6203321000 | 0.6782 | 0.8632
6203322010 | 1.1715 | 1.4911
6203322020 | 1.1715 | 1.4911
6203322030 | 1.1715 | 1.4911
6203322040 | 1.1715 | 1.4911
6203322050 | 1.1715 | 1.4911
6203332010 | 0.1233 | 0.1569
6203332020 | 0.1233 | 0.1569
6203392010 | 0.1233 | 0.1569
6203392020 | 0.1233 | 0.1569
6203399010 | 0.5549 | 0.7063
6203399030 | 0.37 | 0.4709
6203399060 | 0.2466 | 0.3139
6203421000 | 1.0616 | 1.3512
6203422005 | 0.7077 | 0.9008
6203422010 | 0.9436 | 1.2010
6203422025 | 0.9436 | 1.2010
6203422050 | 0.9436 | 1.2010
6203422090 | 0.9436 | 1.2010
6203424003 | 1.0616 | 1.3512
6203424006 | 1.1796 | 1.5014
6203424011 | 1.1796 | 1.5014
6203424016 | 0.9436 | 1.2010
6203424021 | 1.1796 | 1.5014
6203424026 | 1.1796 | 1.5014
6203424031 | 1.1796 | 1.5014
6203424036 | 1.1796 | 1.5014
6203424041 | 0.9436 | 1.2010
6203424046 | 0.9436 | 1.2010
6203424051 | 0.8752 | 1.1140
6203424056 | 0.8752 | 1.1140
6203424061 | 0.8752 | 1.1140
6203431000 | 0.1887 | 0.2402
6203431500 | 0.118 | 0.1502
6203432005 | 0.118 | 0.1502
6203432010 | 0.2359 | 0.3003
6203432025 | 0.2359 | 0.3003
6203432050 | 0.2359 | 0.3003
6203432090 | 0.2359 | 0.3003
6203432500 | 0.4128 | 0.5254
6203433510 | 0.059 | 0.0751
6203433590 | 0.059 | 0.0751
6203434010 | 0.1167 | 0.1485
6203434015 | 0.1167 | 0.1485
6203434020 | 0.1167 | 0.1485
6203434030 | 0.1167 | 0.1485
6203434035 | 0.1167 | 0.1485
6203434040 | 0.1167 | 0.1485
6203491005 | 0.118 | 0.1502
6203491010 | 0.2359 | 0.3003
6203491025 | 0.2359 | 0.3003
6203491050 | 0.2359 | 0.3003
6203491090 | 0.2359 | 0.3003
6203491500 | 0.4128 | 0.5254
6203492015 | 0.2359 | 0.3003
6203492020 | 0.2359 | 0.3003
6203492030 | 0.118 | 0.1502
6203492045 | 0.118 | 0.1502
6203492050 | 0.118 | 0.1502
6203492060 | 0.118 | 0.1502
6203498020 | 0.5308 | 0.6756
6203498030 | 0.3539 | 0.4504
6203498045 | 0.2359 | 0.3003
6204110000 | 0.0617 | 0.0785
6204120010 | 0.9865 | 1.2556
6204120020 | 0.9865 | 1.2556
6204120030 | 0.9865 | 1.2556
6204120040 | 0.9865 | 1.2556
6204132010 | 0.1233 | 0.1569
6204132020 | 0.1233 | 0.1569
6204192000 | 0.1233 | 0.1569
6204198010 | 0.5549 | 0.7063
6204198020 | 0.5549 | 0.7063
6204198030 | 0.5549 | 0.7063
6204198040 | 0.5549 | 0.7063
6204198060 | 0.3083 | 0.3924
6204198090 | 0.2466 | 0.3139
6204221000 | 1.2332 | 1.5696
6204321000 | 0.6782 | 0.8632
6204322010 | 1.1715 | 1.4911
6204322020 | 1.1715 | 1.4911
6204322030 | 0.9865 | 1.2556
6204322040 | 0.9865 | 1.2556
6204398010 | 0.5549 | 0.7063
6204398030 | 0.3083 | 0.3924
6204412010 | 0.0603 | 0.0767
6204412020 | 0.0603 | 0.0767
6204421000 | 1.2058 | 1.5347
6204422000 | 0.6632 | 0.8441
6204423010 | 1.2058 | 1.5347
6204423020 | 1.2058 | 1.5347
6204423030 | 0.9043 | 1.1510
6204423040 | 0.9043 | 1.1510
6204423050 | 0.9043 | 1.1510
6204423060 | 0.9043 | 1.1510
6204431000 | 0.4823 | 0.6139
6204432000 | 0.0603 | 0.0767
6204442000 | 0.4316 | 0.5493
6204495010 | 0.5549 | 0.7063
6204495030 | 0.2466 | 0.3139
6204510010 | 0.0631 | 0.0803
6204510020 | 0.0631 | 0.0803
6204521000 | 1.2618 | 1.6060
6204522010 | 1.1988 | 1.5258
6204522020 | 1.1988 | 1.5258
6204522030 | 1.1988 | 1.5258
6204522040 | 1.1988 | 1.5258
6204522070 | 1.0095 | 1.2849
6204522080 | 1.0095 | 1.2849
6204531000 | 0.4416 | 0.5621
6204532010 | 0.0631 | 0.0803
6204532020 | 0.0631 | 0.0803
6204533010 | 0.2524 | 0.3213
6204533020 | 0.2524 | 0.3213
6204591000 | 0.4416 | 0.5621
6204594010 | 0.5678 | 0.7227
6204594030 | 0.2524 | 0.3213
6204594060 | 0.2524 | 0.3213
6204611010 | 0.059 | 0.0751
6204611020 | 0.059 | 0.0751
6204619010 | 0.059 | 0.0751
6204619020 | 0.059 | 0.0751
6204619030 | 0.059 | 0.0751
6204619040 | 0.118 | 0.1502
6204621000 | 0.8681 | 1.1049
6204622005 | 0.7077 | 0.9008
6204622010 | 0.9436 | 1.2010
6204622025 | 0.9436 | 1.2010
6204622050 | 0.9436 | 1.2010
6204623000 | 1.1796 | 1.5014
6204624003 | 1.0616 | 1.3512
6204624006 | 1.1796 | 1.5014
6204624011 | 1.1796 | 1.5014
6204624021 | 0.9436 | 1.2010
6204624026 | 1.1796 | 1.5014
6204624031 | 1.1796 | 1.5014
6204624036 | 1.1796 | 1.5014
6204624041 | 1.1796 | 1.5014
6204624046 | 0.9436 | 1.2010
6204624051 | 0.9436 | 1.2010
6204624056 | 0.9335 | 1.1882
6204624061 | 0.9335 | 1.1882
6204624066 | 0.9335 | 1.1882
6204631000 | 0.2019 | 0.2570
6204631200 | 0.118 | 0.1502
6204631505 | 0.118 | 0.1502
6204631510 | 0.2359 | 0.3003
6204631525 | 0.2359 | 0.3003
6204631550 | 0.2359 | 0.3003
6204632000 | 0.4718 | 0.6005
6204632510 | 0.059 | 0.0751
6204632520 | 0.059 | 0.0751
6204633010 | 0.0603 | 0.0767
6204633090 | 0.0603 | 0.0767
6204633510 | 0.2412 | 0.3070
6204633525 | 0.2412 | 0.3070
6204633530 | 0.2412 | 0.3070
6204633532 | 0.2309 | 0.2939
6204633535 | 0.2309 | 0.2939
6204633540 | 0.2309 | 0.2939
6204691005 | 0.118 | 0.1502
6204691010 | 0.2359 | 0.3003
6204691025 | 0.2359 | 0.3003
6204691050 | 0.2359 | 0.3003
6204692010 | 0.059 | 0.0751
6204692020 | 0.059 | 0.0751
6204692030 | 0.059 | 0.0751
6204692510 | 0.2359 | 0.3003
6204692520 | 0.2359 | 0.3003
6204692530 | 0.2359 | 0.3003
6204692540 | 0.2309 | 0.2939
6204692550 | 0.2309 | 0.2939
6204692560 | 0.2309 | 0.2939
6204696010 | 0.5308 | 0.6756
6204696030 | 0.2359 | 0.3003
6204696070 | 0.3539 | 0.4504
6204699010 | 0.5308 | 0.6756
6204699030 | 0.2359 | 0.3003
6204699044 | 0.2359 | 0.3003
6204699046 | 0.2359 | 0.3003
6204699050 | 0.3539 | 0.4504
6205201000 | 1.1796 | 1.5014
6205202003 | 0.9436 | 1.2010
6205202016 | 0.9436 | 1.2010
6205202021 | 0.9436 | 1.2010
6205202026 | 0.9436 | 1.2010
6205202031 | 0.9436 | 1.2010
6205202036 | 1.0616 | 1.3512
6205202041 | 1.0616 | 1.3512
6205202044 | 1.0616 | 1.3512
6205202047 | 0.9436 | 1.2010
6205202051 | 0.9436 | 1.2010
6205202056 | 0.9436 | 1.2010
6205202061 | 0.9436 | 1.2010
6205202066 | 0.9436 | 1.2010
6205202071 | 0.9436 | 1.2010
6205202076 | 0.9436 | 1.2010
6205301000 | 0.4128 | 0.5254
6205302010 | 0.2949 | 0.3753
6205302020 | 0.2949 | 0.3753
6205302030 | 0.2949 | 0.3753
6205302040 | 0.2949 | 0.3753
6205302050 | 0.2949 | 0.3753
6205302055 | 0.2949 | 0.3753
6205302060 | 0.2949 | 0.3753
6205302070 | 0.2949 | 0.3753
6205302075 | 0.2949 | 0.3753
6205302080 | 0.2949 | 0.3753
6205900710 | 0.118 | 0.1502
6205900720 | 0.118 | 0.1502
6205901000 | 0.2359 | 0.3003
6205903010 | 0.5308 | 0.6756
6205903030 | 0.2359 | 0.3003
6205903050 | 0.1769 | 0.2252
6205904010 | 0.5308 | 0.6756
6205904030 | 0.2359 | 0.3003
6205904040 | 0.2359 | 0.3003
6206100010 | 0.5308 | 0.6756
6206100030 | 0.2359 | 0.3003
6206100040 | 0.118 | 0.1502
6206100050 | 0.2359 | 0.3003
6206203010 | 0.059 | 0.0751
6206203020 | 0.059 | 0.0751
6206301000 | 1.1796 | 1.5014
6206302000 | 0.6488 | 0.8258
6206303003 | 0.9436 | 1.2010
6206303011 | 0.9436 | 1.2010
6206303021 | 0.9436 | 1.2010
6206303031 | 0.9436 | 1.2010
6206303041 | 0.9436 | 1.2010
6206303051 | 0.9436 | 1.2010
6206303061 | 0.9436 | 1.2010
6206401000 | 0.4128 | 0.5254
6206403010 | 0.2949 | 0.3753
6206403020 | 0.2949 | 0.3753
6206403025 | 0.2949 | 0.3753
6206403030 | 0.2949 | 0.3753
6206403040 | 0.2949 | 0.3753
6206403050 | 0.2949 | 0.3753
6206900010 | 0.5308 | 0.6756
6206900030 | 0.2359 | 0.3003
6206900040 | 0.1769 | 0.2252
6207110000 | 1.0281 | 1.3086
6207199010 | 0.3427 | 0.4362
6207199030 | 0.4569 | 0.5815
6207210010 | 1.0502 | 1.3367
6207210020 | 1.0502 | 1.3367
6207210030 | 1.0502 | 1.3367
6207210040 | 1.0502 | 1.3367
6207220000 | 0.3501 | 0.4456
6207291000 | 0.1167 | 0.1485
6207299030 | 0.1167 | 0.1485
6207911000 | 1.0852 | 1.3812
6207913010 | 1.0852 | 1.3812
6207913020 | 1.0852 | 1.3812
6207997520 | 0.2412 | 0.3070
6207998510 | 0.2412 | 0.3070
6207998520 | 0.2412 | 0.3070
6208110000 | 0.2412 | 0.3070
6208192000 | 1.0852 | 1.3812
6208195000 | 0.1206 | 0.1535
6208199000 | 0.2412 | 0.3070
6208210010 | 1.0026 | 1.2761
6208210020 | 1.0026 | 1.2761
6208210030 | 1.0026 | 1.2761
6208220000 | 0.118 | 0.1502
6208299030 | 0.2359 | 0.3003
6208911010 | 1.0852 | 1.3812
6208911020 | 1.0852 | 1.3812
6208913010 | 1.0852 | 1.3812
6208913020 | 1.0852 | 1.3812
6208920010 | 0.1206 | 0.1535
6208920020 | 0.1206 | 0.1535
6208920030 | 0.1206 | 0.1535
6208920040 | 0.1206 | 0.1535
6208992010 | 0.0603 | 0.0767
6208992020 | 0.0603 | 0.0767
6208995010 | 0.2412 | 0.3070
6208995020 | 0.2412 | 0.3070
6208998010 | 0.2412 | 0.3070
6208998020 | 0.2412 | 0.3070
6209201000 | 1.0967 | 1.3959
6209202000 | 1.039 | 1.3224
6209203000 | 0.9236 | 1.1756
6209205030 | 0.9236 | 1.1756
6209205035 | 0.9236 | 1.1756
6209205045 | 0.9236 | 1.1756
6209205050 | 0.9236 | 1.1756
6209301000 | 0.2917 | 0.3713
6209302000 | 0.2917 | 0.3713
6209303010 | 0.2334 | 0.2971
6209303020 | 0.2334 | 0.2971
6209303030 | 0.2334 | 0.2971
6209303040 | 0.2334 | 0.2971
6209900500 | 0.1154 | 0.1469
6209901000 | 0.2917 | 0.3713
6209902000 | 0.2917 | 0.3713
6209903010 | 0.2917 | 0.3713
6209903015 | 0.2917 | 0.3713
6209903020 | 0.2917 | 0.3713
6209903030 | 0.2917 | 0.3713
6209903040 | 0.2917 | 0.3713
6210109010 | 0.217 | 0.2762
6210109040 | 0.217 | 0.2762
6210203000 | 0.0362 | 0.0461
6210205000 | 0.0844 | 0.1074
6210207000 | 0.1809 | 0.2302
6210303000 | 0.0362 | 0.0461
6210305000 | 0.0844 | 0.1074
6210307000 | 0.0362 | 0.0461
6210309020 | 0.422 | 0.5371
6210403000 | 0.037 | 0.0471
6210405020 | 0.4316 | 0.5493
6210405031 | 0.0863 | 0.1098
6210405039 | 0.0863 | 0.1098
6210405040 | 0.4316 | 0.5493
6210405050 | 0.4316 | 0.5493
6210407000 | 0.111 | 0.1413
6210409025 | 0.111 | 0.1413
6210409033 | 0.111 | 0.1413
6210409045 | 0.111 | 0.1413
6210409060 | 0.111 | 0.1413
6210503000 | 0.037 | 0.0471
6210505020 | 0.0863 | 0.1098
6210505031 | 0.0863 | 0.1098
6210505039 | 0.0863 | 0.1098
6210505040 | 0.0863 | 0.1098
6210505055 | 0.0863 | 0.1098
6210507000 | 0.4316 | 0.5493
6210509050 | 0.148 | 0.1884
6210509060 | 0.148 | 0.1884
6210509070 | 0.148 | 0.1884
6210509090 | 0.148 | 0.1884
6211111010 | 0.1206 | 0.1535
6211111020 | 0.1206 | 0.1535
6211118010 | 1.0852 | 1.3812
6211118020 | 1.0852 | 1.3812
6211118040 | 0.2412 | 0.3070
6211121010 | 0.0603 | 0.0767
6211121020 | 0.0603 | 0.0767
6211128010 | 1.0852 | 1.3812
6211128020 | 1.0852 | 1.3812
6211128030 | 0.6029 | 0.7674
6211200410 | 0.7717 | 0.9822
6211200420 | 0.0965 | 0.1228
6211200430 | 0.7717 | 0.9822
6211200440 | 0.0965 | 0.1228
6211200810 | 0.3858 | 0.4910
6211200820 | 0.3858 | 0.4910
6211201510 | 0.7615 | 0.9692
6211201515 | 0.2343 | 0.2982
6211201520 | 0.6443 | 0.8201
6211201525 | 0.2929 | 0.3728
6211201530 | 0.7615 | 0.9692
6211201535 | 0.3515 | 0.4474
6211201540 | 0.7615 | 0.9692
6211201545 | 0.2929 | 0.3728
6211201550 | 0.7615 | 0.9692
6211201555 | 0.41 | 0.5218
6211201560 | 0.7615 | 0.9692
6211201565 | 0.2343 | 0.2982
6211202400 | 0.1233 | 0.1569
6211202810 | 0.8016 | 1.0203
6211202820 | 0.2466 | 0.3139
6211202830 | 0.3083 | 0.3924
6211203400 | 0.1233 | 0.1569
6211203810 | 0.8016 | 1.0203
6211203820 | 0.2466 | 0.3139
6211203830 | 0.3083 | 0.3924
6211204400 | 0.1233 | 0.1569
6211204815 | 0.8016 | 1.0203
6211204835 | 0.2466 | 0.3139
6211204860 | 0.3083 | 0.3924
6211205400 | 0.1233 | 0.1569
6211205810 | 0.8016 | 1.0203
6211205820 | 0.2466 | 0.3139
6211205830 | 0.3083 | 0.3924
6211206400 | 0.1233 | 0.1569
6211206810 | 0.8016 | 1.0203
6211206820 | 0.2466 | 0.3139
6211206830 | 0.3083 | 0.3924
6211207400 | 0.1233 | 0.1569
6211207810 | 0.9249 | 1.1772
6211207820 | 0.2466 | 0.3139
6211207830 | 0.3083 | 0.3924
6211320003 | 0.6412 | 0.8161
6211320007 | 0.8016 | 1.0203
6211320010 | 0.9865 | 1.2556
6211320015 | 0.9865 | 1.2556
6211320025 | 0.9865 | 1.2556
6211320030 | 0.9249 | 1.1772
6211320040 | 0.9249 | 1.1772
6211320050 | 0.9249 | 1.1772
6211320060 | 0.9249 | 1.1772
6211320070 | 0.9249 | 1.1772
6211320075 | 0.9249 | 1.1772
6211320081 | 0.9249 | 1.1772
6211330003 | 0.0987 | 0.1256
6211330007 | 0.1233 | 0.1569
6211330010 | 0.3083 | 0.3924
6211330015 | 0.3083 | 0.3924
6211330017 | 0.3083 | 0.3924
6211330025 | 0.37 | 0.4709
6211330030 | 0.37 | 0.4709
6211330035 | 0.37 | 0.4709
6211330040 | 0.37 | 0.4709
6211330054 | 0.37 | 0.4709
6211330058 | 0.37 | 0.4709
6211330061 | 0.37 | 0.4709
6211390510 | 0.1233 | 0.1569
6211390520 | 0.1233 | 0.1569
6211390530 | 0.1233 | 0.1569
6211390540 | 0.1233 | 0.1569
6211390545 | 0.1233 | 0.1569
6211390551 | 0.1233 | 0.1569
6211399010 | 0.2466 | 0.3139
6211399020 | 0.2466 | 0.3139
6211399030 | 0.2466 | 0.3139
6211399040 | 0.2466 | 0.3139
6211399050 | 0.2466 | 0.3139
6211399060 | 0.2466 | 0.3139
6211399070 | 0.2466 | 0.3139
6211399090 | 0.2466 | 0.3139
6211420003 | 0.6412 | 0.8161
6211420007 | 0.8016 | 1.0203
6211420010 | 0.9865 | 1.2556
6211420020 | 0.9865 | 1.2556
6211420025 | 1.1099 | 1.4127
6211420030 | 0.8632 | 1.0987
6211420040 | 0.9865 | 1.2556
6211420054 | 1.1099 | 1.4127
6211420056 | 1.1099 | 1.4127
6211420060 | 0.9865 | 1.2556
6211420070 | 1.1099 | 1.4127
6211420075 | 1.1099 | 1.4127
6211420081 | 1.1099 | 1.4127
6211430003 | 0.0987 | 0.1256
6211430007 | 0.1233 | 0.1569
6211430010 | 0.2466 | 0.3139
6211430020 | 0.2466 | 0.3139
6211430030 | 0.2466 | 0.3139
6211430040 | 0.2466 | 0.3139
6211430050 | 0.2466 | 0.3139
6211430060 | 0.2466 | 0.3139
6211430064 | 0.3083 | 0.3924
6211430066 | 0.2466 | 0.3139
6211430074 | 0.3083 | 0.3924
6211430076 | 0.37 | 0.4709
6211430078 | 0.37 | 0.4709
6211430091 | 0.2466 | 0.3139
6211499010 | 0.2466 | 0.3139
6211499020 | 0.2466 | 0.3139
6211499030 | 0.2466 | 0.3139
6211499040 | 0.2466 | 0.3139
6211499050 | 0.2466 | 0.3139
6211499060 | 0.2466 | 0.3139
6211499070 | 0.2466 | 0.3139
6211499080 | 0.2466 | 0.3139
6211499090 | 0.2466 | 0.3139
6212105010 | 0.9138 | 1.1631
6212105020 | 0.2285 | 0.2908
6212105030 | 0.2285 | 0.2908
6212109010 | 0.9138 | 1.1631
6212109020 | 0.2285 | 0.2908
6212109040 | 0.2285 | 0.2908
6212200010 | 0.6854 | 0.8724
6212200020 | 0.2856 | 0.3635
6212200030 | 0.1142 | 0.1454
6212300010 | 0.6854 | 0.8724
6212300020 | 0.2856 | 0.3635
6212300030 | 0.1142 | 0.1454
6212900010 | 0.1828 | 0.2327
6212900020 | 0.1828 | 0.2327
6212900030 | 0.1828 | 0.2327
6212900050 | 0.0914 | 0.1163
6212900090 | 0.4112 | 0.5234
6213201000 | 1.1187 | 1.4239
6213202000 | 1.0069 | 1.2816
6213900700 | 0.4475 | 0.5696
6213901000 | 0.4475 | 0.5696
6213902000 | 0.3356 | 0.4272
6214300000 | 0.1142 | 0.1454
6214400000 | 0.1142 | 0.1454
6214900010 | 0.8567 | 1.0904
6214900090 | 0.2285 | 0.2908
6215100025 | 0.1142 | 0.1454
6215200000 | 0.1142 | 0.1454
6215900015 | 1.0281 | 1.3086
6216000800 | 0.0685 | 0.0872
6216001300 | 0.3427 | 0.4362
6216001720 | 0.6397 | 0.8142
6216001730 | 0.1599 | 0.2035
6216001900 | 0.3427 | 0.4362
6216002110 | 0.578 | 0.7357
6216002120 | 0.2477 | 0.3153
6216002410 | 0.6605 | 0.8407
6216002425 | 0.1651 | 0.2101
6216002600 | 0.1651 | 0.2101
6216002910 | 0.6605 | 0.8407
6216002925 | 0.1651 | 0.2101
6216003100 | 0.1651 | 0.2101
6216003300 | 0.5898 | 0.7507
6216003500 | 0.5898 | 0.7507
6216003800 | 1.1796 | 1.5014
6216004100 | 1.1796 | 1.5014
6217109510 | 0.9646 | 1.2277
6217109520 | 0.1809 | 0.2302
6217109530 | 0.2412 | 0.3070
6217909003 | 0.9646 | 1.2277
6217909005 | 0.1809 | 0.2302
6217909010 | 0.2412 | 0.3070
6217909025 | 0.9646 | 1.2277
6217909030 | 0.1809 | 0.2302
6217909035 | 0.2412 | 0.3070
6217909050 | 0.9646 | 1.2277
6217909055 | 0.1809 | 0.2302
6217909060 | 0.2412 | 0.3070
6217909075 | 0.9646 | 1.2277
6217909080 | 0.1809 | 0.2302
6217909085 | 0.2412 | 0.3070
6301300010 | 0.8305 | 1.0571
6301300020 | 0.8305 | 1.0571
6301900030 | 0.2215 | 0.2819
6302100005 | 1.1073 | 1.4094
6302100008 | 1.1073 | 1.4094
6302100015 | 1.1073 | 1.4094
6302213010 | 1.1073 | 1.4094
6302213020 | 1.1073 | 1.4094
6302213030 | 1.1073 | 1.4094
6302213040 | 1.1073 | 1.4094
6302213050 | 1.1073 | 1.4094
6302215010 | 0.7751 | 0.9865
6302215020 | 0.7751 | 0.9865
6302215030 | 0.7751 | 0.9865
6302215040 | 0.7751 | 0.9865
6302215050 | 0.7751 | 0.9865
6302217010 | 1.1073 | 1.4094
6302217020 | 1.1073 | 1.4094
6302217030 | 1.1073 | 1.4094
6302217040 | 1.1073 | 1.4094
6302217050 | 1.1073 | 1.4094
6302219010 | 0.7751 | 0.9865
6302219020 | 0.7751 | 0.9865
6302219030 | 0.7751 | 0.9865
6302219040 | 0.7751 | 0.9865
6302219050 | 0.7751 | 0.9865
6302221010 | 0.5537 | 0.7047
6302221020 | 0.3876 | 0.4933
6302221030 | 0.5537 | 0.7047
6302221040 | 0.3876 | 0.4933
6302221050 | 0.3876 | 0.4933
6302221060 | 0.3876 | 0.4933
6302222010 | 0.3876 | 0.4933
6302222020 | 0.3876 | 0.4933
6302222030 | 0.3876 | 0.4933
6302290020 | 0.2215 | 0.2819
6302313010 | 1.1073 | 1.4094
6302313020 | 1.1073 | 1.4094
6302313030 | 1.1073 | 1.4094
6302313040 | 1.1073 | 1.4094
6302313050 | 1.1073 | 1.4094
6302315010 | 0.7751 | 0.9865
6302315020 | 0.7751 | 0.9865
6302315030 | 0.7751 | 0.9865
6302315040 | 0.7751 | 0.9865
6302315050 | 0.7751 | 0.9865
6302317010 | 1.1073 | 1.4094
6302317020 | 1.1073 | 1.4094
6302317030 | 1.1073 | 1.4094
6302317040 | 1.1073 | 1.4094
6302317050 | 1.1073 | 1.4094
6302319010 | 0.7751 | 0.9865
6302319020 | 0.7751 | 0.9865
6302319030 | 0.7751 | 0.9865
6302319040 | 0.7751 | 0.9865
6302319050 | 0.7751 | 0.9865
6302321010 | 0.5537 | 0.7047
6302321020 | 0.3876 | 0.4933
6302321030 | 0.5537 | 0.7047
6302321040 | 0.3876 | 0.4933
6302321050 | 0.3876 | 0.4933
6302321060 | 0.3876 | 0.4933
6302322010 | 0.5537 | 0.7047
6302322020 | 0.3876 | 0.4933
6302322030 | 0.5537 | 0.7047
6302322040 | 0.3876 | 0.4933
6302322050 | 0.3876 | 0.4933
6302322060 | 0.3876 | 0.4933
6302390030 | 0.2215 | 0.2819
6302402010 | 0.9412 | 1.1980
6302511000 | 0.5537 | 0.7047
6302512000 | 0.8305 | 1.0571
6302513000 | 0.5537 | 0.7047
6302514000 | 0.7751 | 0.9865
6302593020 | 0.5537 | 0.7047
6302600010 | 1.1073 | 1.4094
6302600020 | 0.9966 | 1.2685
6302600030 | 0.9966 | 1.2685
6302910005 | 0.9966 | 1.2685
6302910015 | 1.1073 | 1.4094
6302910025 | 0.9966 | 1.2685
6302910035 | 0.9966 | 1.2685
6302910045 | 0.9966 | 1.2685
6302910050 | 0.9966 | 1.2685
6302910060 | 0.9966 | 1.2685
6302931000 | 0.4429 | 0.5637
6302932000 | 0.4429 | 0.5637
6302992000 | 0.2215 | 0.2819
6303191100 | 0.8859 | 1.1276
6303910010 | 0.609 | 0.7751
6303910020 | 0.609 | 0.7751
6303921000 | 0.2768 | 0.3523
6303922010 | 0.2768 | 0.3523
6303922030 | 0.2768 | 0.3523
6303922050 | 0.2768 | 0.3523
6303990010 | 0.2768 | 0.3523
6304111000 | 0.9966 | 1.2685
6304113000 | 0.1107 | 0.1409
6304190500 | 0.9966 | 1.2685
6304191000 | 1.1073 | 1.4094
6304191500 | 0.3876 | 0.4933
6304192000 | 0.3876 | 0.4933
6304193060 | 0.2215 | 0.2819
6304910020 | 0.8859 | 1.1276
6304910070 | 0.2215 | 0.2819
6304920000 | 0.8859 | 1.1276
6304996040 | 0.2215 | 0.2819
6505001515 | 1.1189 | 1.4241
6505001525 | 0.5594 | 0.7120
6505001540 | 1.1189 | 1.4241
6505002030 | 0.9412 | 1.1980
6505002060 | 0.9412 | 1.1980
6505002545 | 0.5537 | 0.7047
6507000000 | 0.3986 | 0.5073
9404901000 | 0.2104 | 0.2678
9404908020 | 0.9966 | 1.2685
9404908040 | 0.9966 | 1.2685
9404908505 | 0.6644 | 0.8456
9404908536 | 0.0997 | 0.1269
9404909505 | 0.6644 | 0.8456
9404909570 | 0.2658 | 0.3383
9619002100 | 0.8681 | 1.1049
9619002500 | 0.1085 | 0.1381
9619003100 | 0.9535 | 1.2136
9619003300 | 1.1545 | 1.4694
9619004100 | 0.2384 | 0.3034
9619004300 | 0.2384 | 0.3034
9619006100 | 0.8528 | 1.0854
9619006400 | 0.2437 | 0.3102
9619006800 | 0.3655 | 0.4652
9619007100 | 1.1099 | 1.4127
9619007400 | 0.2466 | 0.3139
9619007800 | 0.2466 | 0.3139
9619007900 | 0.2466 | 0.3139

* * * * *

Authority: 7 U.S.C. 2101-2118.

Dated: June 23, 2014.
Rex A. Barnes,
Associate Administrator.

[FR Doc. 2014-14988 Filed 6-25-14; 8:45 am]

BILLING CODE 3410-02-P